DEPARTMENT OF TRANSPORTATION

Office of the Secretary

14 CFR Chapter II

[Docket No. DOT-OST-2014-0140]

RIN 2105-AD86

Aviation Economic Regulation Amendments

AGENCY: Office of the Secretary (OST), U.S. Department of Transportation (DOT).

ACTION: Notice of Proposed Rulemaking (NPRM).

SUMMARY: The Department is proposing to amend various provisions regarding its aviation economic regulations to eliminate any further remaining obsolete provisions and correct outdated statutory references. This rulemaking aligns with the Department's retrospective regulatory review initiatives to modify, streamline, or repeal regulations that are obsolete or out-of-date.

DATES: Comments must be received on or before July 9, 2018. Comments received after this date will be considered to the extent practicable.

ADDRESSES: You may file comments identified by docket number DOT-OST-2014-0140 by any of the following methods:

• Federal eRulemaking Portal: Go to http://www.regulations.gov and follow the online instructions for submitting comments.

• Mail: Docket Operations Office, U.S. Department of Transportation, 1200 New Jersey Avenue SE, Room W12-140, Washington, DC 20590-0001.

• Hand Delivery or Courier: West Building Ground Floor, Room W12-140, 1200 New Jersey Avenue SE, Washington, DC, between 9 a.m. and 5 p.m., ET, Monday through Friday, except Federal Holidays.

• Fax: (202) 493-2251.

Instructions: All submissions must include the agency name and docket number for this document at the beginning of the comment. To avoid duplication, please use only one of these four methods. All comments received will be posted without change to http://www.regulations.gov and will include any personal information you provide. All comments received will be posted without change to the Federal Docket Management System (FDMS), including any personal information.

Privacy: In accordance with 5 U.S.C. 553(c), DOT solicits comments from the public to better inform its rulemaking process. DOT posts these comments, without edit, to www.regulations.gov, as described in the system of records notice, DOT/ALL-14 FDMS, accessible through www.dot.gov/privacy. In order to facilitate comment tracking and response, we encourage commenters to provide their name, or the name of their organization; however, submission of names is completely optional. Whether or not commenters identify themselves, all timely comments will be fully considered. If you wish to provide comments containing proprietary or confidential information, please contact the agency for alternate submission instructions.

Docket: For internet access to the docket to read background documents or comments go to http://www.regulations.gov, or to the street address listed above. Follow the online instructions for accessing the dockets.

FOR FURTHER INFORMATION CONTACT: Jill Laptosky or Jennifer Abdul-Wali, Office of Regulation, U.S. Department of Transportation, 1200 New Jersey Avenue SE, Washington, DC 20590; (202) 366-4723; fax: (202) 366-9313; email: Jill.Laptosky@dot.gov or Jennifer.AbdulWali@dot.gov.

SUPPLEMENTARY INFORMATION: In 1994, the Federal Aviation Act was revised and codified within Subtitle VII of Title 49 of the United States Code (Pub. L. 103-272, July 5, 1994). Since the codification, the Department has made numerous amendments to make the CFR consistent with the provisions of the current statute (49 U.S.C., Subtitle VII). Some provisions, however, remained unchanged, due in part to the complexity of certain issues, such as antitrust immunity, agreements, and waivers. This rule proposes to update the economic regulations by modifying language to reflect current statutory provisions related to these remaining issues. The proposed language is not intended to diminish any existing Civil Aeronautics Board (CAB) provisions or precedent still in effect. Thus, the Department is seeking comment on whether any of the references to CAB or other referenced terms, which are proposed for removal in this rulemaking, are still relevant and, therefore, should be retained for precedential or other useful purposes. We are also seeking comment on whether additional proposed changes and updates to the Aviation Economic Rules (14 CFR parts 200 through 399) should be adopted.

More specifically, this rule proposes updating the regulatory language throughout 14 CFR parts 200-399 in the following ways: (1) Where references to the CAB are no longer relevant, replacing the term “Board” or “CAB”, where appropriate, with “Department”, “DOT” or “Predecessor”; (2) removing citations to the “Federal Aviation Act” or “Act” and adding citations to the appropriate sections of Title 49 of the United States Code; (3) inserting current names of forms in place of outdated references to CAB forms; (4) adding up-to-date titles for offices within the Department; and (5) updating the authority citations, where needed.

Additional changes are as follows:

Part 204 describes the data the Department uses to support carrier fitness determinations. Section 204.4 discusses carrier obligations for proposing to provide essential air service. The section is no longer in use and is obsolete. As such, the section would be removed in its entirety.

Parts 207 and 208 address U.S. scheduled and charter air carrier requirements with respect to charter trips. Both parts refer to 14 CFR part 212 in describing carrier obligations on charter air transportation and contain no independent obligations of their own. As such, the parts are obsolete and would be removed.

Part 221 describes carrier obligations with respect to tariffs. This rule proposes to revise part 221 by broadening the language used to refer to international treaties. The current regulation refers to the Warsaw Convention, which is no longer the relevant international treaty applicable to travelers on many itineraries. The rule would update and simplify existing passenger notification requirements and consolidate such requirements into a single section. Specifically, the rule would consolidate separate notice requirements for liability from death or injury and liability from damage to baggage into a single notice requirement that better reflects the current international landscape, including references to the 1999 Montreal Convention, which governs many international itineraries originating or terminating in the United States. As of 2017, a carrier's liability could be limited under the 1999 Montreal Convention to 113,100 Special Drawing Rights (SDR) for damages from death or injury, 4,694 SDR for damages caused by the delay of passengers, and 1,131 SDR for damages resulting from the destruction, loss, damage, or delay of baggage. The proposed rule would also remove + references to agreements approved by CAB order. Carriers will be provided until December 31, 2019, to comply with the signage requirements of this part.

Part 223 sets forth rules regarding free and reduced-rate transportation. This rule proposes to update part 223 by removing references to specific sections of the “Act” such as “under section 408 of the Act.” Additionally, in section 223.1, the term “handicapped passenger” is used to describe a person with a disability. However, under the Americans with Disabilities Act (ADA), the current practice is to use “person-first” terminology (e.g., changes “handicapped person” to “person with a disability”). Where applicable, as the Department reviews its regulations, the term “handicapped” would be replaced with the person-first terminology in alignment with the ADA. This rule proposes to remove the term “Handicapped passenger” and would replace it with the term “passenger with a disability.”

Part 232 established procedures for a party aggrieved by an order of the Postmaster General to request a review by DOT. In 2008, amendments to 49 U.S.C. 41902 removed from the statute the authority for the Secretary of Transportation to amend, modify, suspend, or cancel an order of the Postal Service (Pub. L. 110-405, Jan. 4, 2008). Accordingly, the statutory basis for Part 232 regulations no longer exists and Part 232 would be removed.

Part 234 describes the requirements for filing airline service quality performance reports. The existing citation of authorities for this part contains an error. This rule corrects the error.

Part 241 describes a uniform system of accounts and reports for large carriers. This rule proposes to remove section 01 of part 241. The section restates outdated statutory text and may lead to confusion if retained.

Part 272 established essential air service procedures for the Freely Associated States comprising the Federated States of Micronesia (Ponape, Truk and Yap), the Marshall Islands (Majuro and Kwajalein), and Koror in Palau. The procedures include requirements for airlines to file notice before suspending service, an obligation to continue to provide service when subsidy is available, and carrier-selection criteria. Section 272.12 states, “These provisions shall terminate on October 1, 1998, unless the essential air service program to the Federated States of Micronesia, the Marshall Islands and Palau is specifically extended by Congress.” Congress did not extend the program (Pub. L. 101-219, Sec. 110(b), (Dec.12,1989)). Thus, the statutory basis for the regulation no longer exists and part 272 would be removed.

Part 300 sets forth the rules of conduct in DOT proceedings involving aviation economic and enforcement matters. Many of these rules set forth standards of ethical conduct applicable to DOT employees with respect to aviation economic matters. DOT employees are also subject to the ethics requirements of 49 CFR 99.735-1. In order to reduce the duplicative nature of both sets of ethics requirements and to minimize the potential for confusion over such requirements, several sections of part 300 would be removed under this rule. The resulting regulations will ensure consistent ethical standards across all employees of the agency.

Part 302 sets forth the Rules of Practice in Proceedings before the DOT. Part 305 describes the Rules of Practice for Informal Nonpublic Investigations undertaken by the Office of Aviation Enforcement and Proceedings. Part 385 sets forth the authorities and functions of various DOT officials. On August 17, 2012, the Department issued an extensive revision to 49 CFR part 1 (Organization and Delegation of Powers and Duties) [77 FR 49965]. The Department proposes to revise parts 302, 305, and 385 to reflect the changes set forth in the revision to part 1.

Part 330 established procedures implementing the airline compensation section of the Air Transportation Safety and System Stabilization Act, which was enacted following the terrorist attacks of September 11, 2001, Public Law 107-42, (Sept. 22, 2001) (the Stabilization Act). Section 103 of the Stabilization Act appropriated up to $5 billion, to be administered by the Department of Transportation, to compensate air carriers for losses they incurred due to the attacks. Part 330 set out carrier eligibility criteria; forms for applying for the compensation payments; details on types of losses that would and would not be eligible for compensation; audit procedures; and details on a set-aside program for certain air taxis, commuter carriers, and other small carriers. Of the 427 applications processed, 407 applicants were deemed eligible under part 330. These carriers received payments in a total amount of $4.6 billion. All eligible appropriations have been completed and payments have now been processed and paid, and all functions and responsibilities under this section have been fulfilled. As a result, part 330 serves no further purpose and would be removed.

Part 374 specifies the Department's responsibility for enforcing air carrier and foreign air carrier compliance with the applicable requirements of the Consumer Credit Protection Act. This rule proposes revising part 374 by updating the language in § 374.3 regarding references to Regulation B, 12 CFR part 202, and Regulation Z, 12 CFR part 226. Enforcement responsibility for parts 202 and 226 has been divided and reassigned among Federal government agencies. Accordingly, the language in § 374.3 will be revised to reference the current applicable regulations, 12 CFR part 1026.

Part 380 is applicable to public charter air transportation in interstate or foreign air transportation. This rule proposes revising part 380 by updating Appendix A and B. part 380 sets forth the Department's rules governing Public Charter air transportation of passengers whether furnished by direct air carriers or Public Charter Operators. Appendix A and B to part 380, respectively, contain the format for the Public Charter Operator's Surety Bond and the Public Charter Surety Trust Agreement. Since the existing Appendix A and B to part 380 were published in 1998, various changes have been made to both documents. Therefore, Appendix A and B would be updated to provide the most current format for the Public Charter Operator's Surety Bond and the Public Charter Surety Trust Agreement.

In part 385, the Secretary of Transportation delegates certain continuing assignments of authority to Secretarial Officers regarding the Department's functions of issuing orders or other determinations pursuant to 49 U.S.C. 322 and 49 CFR part 1. The Secretary has determined that several of the items currently prepared for decision at the Assistant Secretary level could be handled more efficiently at the Office Director level, thereby providing more time for the Assistant Secretary and immediate secretarial staff to concentrate on controversial and policy-sensitive issues. This action would ensure that routine items are processed in a much more timely and efficient manner. Thus, this rulemaking proposes to amend sections 385.12 and 385.13 to reflect the expanded assignments of authority to the Director of the Office of Aviation Analysis and the Director of the Office of International Aviation, both in the Office of the Assistant Secretary for Aviation and International Affairs.

Section 385.12 defines the authority of the Director of the Office of Aviation Analysis. This rule proposes to authorize the Director to issue Essential Air Service (EAS) Requests for Proposals and certain final EAS selection orders. This expanded delegation alone would relieve the Assistant Secretary for Aviation and International Affairs of reviewing nearly sixty orders per year, saving over three hundred (300) hours of senior management time and approximately one hundred twenty (120) hours of staff time in the Office of Aviation Analysis. This rule proposes to expand the Director's authority to issue quarterly fuel rate adjustments to Alaskan bush and mainline mail rates and to issue certain procedural orders in antitrust immunity cases processed under 49 U.S.C. 41308 and 41309. This rule also proposes to remove paragraphs (f), (h), and (i) of section 385.12, as these requirements would be placed under the authority of the Director of the Office of International Aviation in section 385.13. Accordingly, subsections (g)-(k) would be re-designated.

Section 385.13 defines the authority of the Director of the Office of International Aviation. This rule proposes to amend subsection (a) of section 385.13 to grant the Director the authority to issue final orders on uncontested tariff exemptions. This rulemaking also proposes to amend subsection (b) to authorize the Director to issue final orders on uncontested applications for U.S. carrier certificate and foreign air carrier permit authority. Further, this action proposes to add two new subsections regarding fares and tariffs and amend subsection 385.13(r)(1) to give the Director the authority to exempt IATA ¹ agreements under section 41309; this would be in addition to the Director's existing authority to approve or disapprove such agreements. This rule also proposes adding new subsections (z)-(dd) that would: (1) Authorize the Director to issue orders and notices adjusting the Standard Foreign Fare Level; (2) authorize the Director to issue notices updating the list of country-pair markets in tariff-filing categories under part 293 of this chapter; (3) give the Director assigned authority as to certain matters processed by the Office of International Aviation's U.S. Air Carrier Licensing/Special Authorities Division; and (4) add requirements moved from 385.12(f), 385.12(h), and 385.12(i).

¹ International Air Transport Association.

Sections 385.14 and 385.15 define the authority of the General Counsel and Deputy General Counsel, respectively. Consistent with the delegation of duties assigned in 49 CFR part 1, as revised on August 16, 2012, by 77 FR 49964, the Secretary has assigned several duties to the General Counsel. Sections 385.14 and 385.15 would be revised to reflect this assignment of duties. This rule would remove section 385.15 and transfer its functions to section 385.14.

Part 389 describes fees and charges for special services. This rule proposes to amend part 389 by (1) removing references to organizations and position titles that no longer exist and replacing them with references to appropriate organizations and positions, (2) correcting the filing fees charged for special services to reflect a recent rulemaking action, (3) allowing for payment of filing fees using the internet, and (4) revising the descriptions of licenses for which the Department charges filing fees.

Part 398 establishes guidelines for the determination of basic essential air service. The Department proposes to amend part 398 by removing an outdated provision for funding reductions in § 398.11. Section 398.11 was superseded by Public Law 106-69, Title III, § 332, October 9, 1999, 113 Stat. 1022.

Part 399, subpart C sets forth the Department's policies related to rates and tariffs. This rulemaking action proposes removing fourteen sections from this subpart (§§ 399.30, 399.31, 399.32, 399.33, 399.34, 399.37, 399.40, 399.41, 399.42, 399.43, 399.44, 399.63, 399.101, and 399.111). These sections are obsolete because of the Airline Deregulation Act of 1978 and the Civil Aeronautics Board Sunset Act of 1984.

Regulatory Analyses and Notices

A. Executive Order 12866 and DOT Regulatory Policies and Procedures

This NPRM is not a significant regulatory action under Executive Order 12866 and the Department's Regulatory Policies and Procedures. Its provisions involve technical amendments to update statutory references and to update the titles and addresses of offices. The rule also proposes to remove certain appendices, sections, and forms that are no longer relevant. This rule does not propose any major policy changes or impose significant new costs or burdens.

B. Executive Order 13771 (Reducing Regulation and Controlling Regulatory Costs)

This proposed rule is not expected to be an E.O. 13771 regulatory action because this proposed rule is not significant under E.O. 12866.

C. Regulatory Flexibility Act

Pursuant to section 605 of the Regulatory Flexibility Act (RFA), 5 U.S.C. 605(b), as amended by the Small Business Regulatory Enforcement Fairness Act of 1996 (SBREFA), I hereby certify that this rulemaking would not have a significant impact on a substantial number of small entities. The NPRM would impose no duties or obligations on small entities.

D. Executive Order 13132 (Federalism)

A rule has implications for federalism under Executive Order 13132, Federalism, if it has a substantial direct effect on State or local governments and would either preempt State law or impose a substantial direct cost of compliance on them. We have analyzed this NPRM in accordance with the principles and criteria contained in the Order and have determined that it does not have implications for federalism, since it merely makes technical amendments to the existing regulations. This NPRM does not have a substantial direct effect on, or sufficient federalism implications for, the States, nor would it limit the policymaking discretion of the States.

E. Executive Order 13175

This NPRM has been analyzed in accordance with the principles and criteria contained in Executive Order 13175 (“Consultation and Coordination with Indian Tribal Governments”). Because this NPRM does not significantly or uniquely affect the communities of the Indian tribal governments or impose substantial direct compliance costs on them, the funding and consultation requirements of Executive Order 13175 do not apply.

F. Paperwork Reduction Act

The Paperwork Reduction Act of 1995 (PRA) (44 U.S.C. 3501 et seq.) requires that DOT consider the impact of paperwork and other information collection burdens imposed on the public and, under the provisions of PRA section 3507(d), obtain approval from the Office of Management and Budget (OMB) for each collection of information it conducts, sponsors, or requires through regulations. The DOT has determined there are no new information collection requirements associated with this NPRM.

G. National Environmental Policy Act

The agency has analyzed the environmental impacts of this proposed action pursuant to the National Environmental Policy Act of 1969 (NEPA) (42 U.S.C. 4321 et seq.) and has determined that it is categorically excluded pursuant to DOT Order 5610.1C, Procedures for Considering Environmental Impacts (44 FR 56420, Oct. 1, 1979). Categorical exclusions are actions identified in an agency's NEPA implementing procedures that do not normally have a significant impact on the environment and therefore do not require either an environmental assessment (EA) or environmental impact statement (EIS). The purpose of this rulemaking is to make editorial corrections, remove obsolete references, and update outdated provisions in the Department's aviation economic regulations. The agency does not anticipate any environmental impacts, and there are no extraordinary circumstances present in connection with this rulemaking.

List of Subjects

14 CFR Part 200

Air transportation.

14 CFR Part 201

Air carriers, Reporting and recordkeeping requirements.

14 CFR Part 203

Air carriers, Air transportation, Foreign relations, Insurance, Reporting and recordkeeping requirements.

14 CFR Part 204

Air carriers, Reporting and recordkeeping requirements.

14 CFR Part 205

Air carriers, Freight, Insurance, Reporting and recordkeeping requirements.

14 CFR Part 207

Air carriers, Charter flights.

14 CFR Part 208

Air carriers, Charter flights.

14 CFR Part 211

Administrative practice and procedure, Air carriers, Pacific Islands Trust Territory, Reporting and recordkeeping requirements.

14 CFR Part 212

Charter flights, Confidential business information, Reporting and recordkeeping requirements, Surety bonds.

14 CFR Part 214

Air carriers, Charter flights.

14 CFR Part 215

Air carriers, Reporting and recordkeeping requirements, Trade names.

14 CFR Part 216

Air carriers.

14 CFR Part 217

Air carriers, Reporting and recordkeeping requirements.

14 CFR Part 218

Air carriers, Aircraft, Airmen.

14 CFR Part 221

Air rates and fares, Freight, Reporting and recordkeeping requirements.

14 CFR Part 222

Air carriers, Freight, Intermodal transportation, Reporting and recordkeeping requirements.

14 CFR Part 223

Air rates and fares, Government employees, Reporting and recordkeeping requirements.

14 CFR Part 232

Administrative practice and procedure, Air carriers, Postal Service.

14 CFR Part 234

Air carriers, Consumer protection, Reporting and recordkeeping requirements.

14 CFR Part 240

Air carriers, Uniform System of Accounts.

14 CFR Part 241

Air carriers, Reporting and recordkeeping requirements, Uniform System of Accounts.

14 CFR Part 243

Air carriers, Aircraft, Charter flights, Reporting and recordkeeping requirements.

14 CFR Part 247

Air carriers, Airports.

14 CFR Part 248

Air carriers, Reporting and recordkeeping requirements, Uniform System of Accounts.

14 CFR Part 249

Air carriers, Reporting and recordkeeping requirements, Truth in lending, Uniform System of Accounts.

14 CFR Part 253

Air carriers, Consumer protection.

14 CFR Part 257

Air carriers, Air rates and fares, Consumer protection, Reporting and recordkeeping requirements.

14 CFR Part 258

Air carriers, Consumer protection, Reporting and recordkeeping requirements.

14 CFR Part 271

Air carriers, Grant programs—transportation.

14 CFR Part 272

Air carriers, Grant programs—transportation, Pacific Islands Trust Territory.

14 CFR Part 291

Administrative practice and procedure, Air carriers, Freight, Reporting and recordkeeping requirements.

14 CFR Part 294

Air taxis, Canada, Charter flights, Reporting and recordkeeping requirements.

14 CFR Part 296

Air carriers, Freight forwarders, Research.

14 CFR Part 297

Air carriers, Freight forwarders.

14 CFR Part 298

Air taxis, Reporting and recordkeeping requirements.

14 CFR Part 300

Administrative practice and procedure, Conflict of interests.

14 CFR Part 302

Administrative practice and procedure, Air carriers, Airports, Postal Service.

14 CFR Part 303

Administrative practice and procedure, Air carriers, Antitrust, Reporting and recordkeeping requirements.

14 CFR Part 305

Administrative practice and procedure, Air carriers, Investigations.

14 CFR Part 323

Administrative practice and procedure, Air carriers, Reporting and recordkeeping requirements

14 CFR Part 325

Administrative practice and procedure, Air transportation, Intergovernmental relations, Reporting and recordkeeping requirements.

14 CFR Part 330

Administrative practice and procedure, Air carriers, Grant programs—transportation, Reporting and recordkeeping requirements.

14 CFR Part 372

Charter flights, Military air transportation, Reporting and recordkeeping requirements, Surety bonds.

14 CFR Part 374

Air carriers, Consumer protection, Credit.

14 CFR Part 374a

Air carriers, Credit, Political candidates, Reporting and recordkeeping requirements.

14 CFR Part 375

Administrative practice and procedure, Aircraft, Foreign relations, Reporting and recordkeeping requirements.

14 CFR Part 377

Administrative practice and procedure, Air carriers.

14 CFR Part 380

Charter flights, Reporting and recordkeeping requirements, Surety bonds.

14 CFR Part 385

Organization and functions (Government agencies).

14 CFR Part 389

Administrative practice and procedure, Reporting and recordkeeping requirements.

14 CFR Part 398

Air transportation.

14 CFR Part 399

Administrative practice and procedure, Air carriers, Air rates and fares, Air taxis, Consumer protection, Small businesses.

The Amendment

In consideration of the foregoing, and under the authority of 49 U.S.C. 322, the Department proposes to amend Title 14, Chapter II of the Code of Federal Regulations as follows:

PART 200—DEFINITIONS AND INSTRUCTIONS

1. The authority citation for part 200 continues to read as follows:

Authority: 49 U.S.C. Chapters 401, 411, 413, 415, 417, and 461.

2. Section 200.1 is revised to read as follows:

§ 200.1 Terms and definitions.

Unless otherwise specifically stated, words and phrases other than those listed in this section have the meaning defined in 49 U.S.C. Subtitle VII.

(a) Department or DOT means the Department of Transportation.

(b) Predecessor means the Civil Aeronautics Board (CAB).

(c) Section refers to a section of Subtitle VII of Title 49 of the United States Code (Transportation) or a section of the regulations in this chapter, as indicated by the context. The terms in this section, pursuant to this section, in accordance with the provisions of this section, and words of similar import when used in this chapter refer to the section of the subchapter in which such terms appear.

(d) Rule, regulation, and order refer to the rules, regulations, and orders prescribed by the Department pursuant to the 49 U.S.C. Subtitle VII or its predecessor's rules, regulations, and orders that are, by law, still in effect.

(e) FAA means the Federal Aviation Administration, U.S. Department of Transportation.

(f) OST-R means the Office of the Assistant Secretary for Research and Technology, U.S. Department of Transportation.

(g) Secretary means the Secretary of Transportation, U.S. Department of Transportation.

PART 201—AIR CARRIER AUTHORITY UNDER SUBTITLE VII OF TITLE 49 OF THE UNITED STATES CODE

3. The authority citation for part 201 continues to read as follows:

Authority: 5 U.S.C. 1008; 49 U.S.C. Chapters 401, 411, 413, 415, and 417.

§ 201.1 [Amended]

4. In § 201.1, in paragraph (b), remove the words “DOT Dockets, 1200 New Jersey Avenue SE., Washington, DC 20590-0002” and add, in their place, the words “Docket Operations Office, U.S. Department of Transportation, Room W12-140, 1200 New Jersey Avenue SE, Washington, DC 20590-0001”.

§ 201.7 [Amended]

5. In § 201.7, in paragraph (e), remove the words “Office of Aviation Analysis” and add, in their place, the words “Office of International Aviation”.

PART 203—WAIVER OF WARSAW CONVENTION LIABILITY LIMITS AND DEFENSES

6. The authority citation for part 203 continues to read as follows:

Authority: 49 U.S.C. Chapters 401, 411, 413, 415, and 417.

7. Section 203.3 is revised to read as follows:

§ 203.3 Filing requirements for adherence to Montreal Convention.

All direct U.S. and foreign air carriers shall have and maintain in effect and on file in the Department's Docket Operations Office (DOT-OST-1995-236) on OST Form 4523 a signed counterpart to Agreement 18900, an agreement relating to liability limitations of the Warsaw Convention and Hague Protocol, (the Montreal Agreement), dated May 13, 1966, and/or a signed counterpart of any amendment or replacement to such Agreement that may be approved by the Department and to which the air carrier or foreign air carrier becomes a party. U.S. air taxi operators registering under part 298 of this chapter and Canadian charter air taxi operators registering under part 294 of this chapter may comply with this requirement by filing completed OST Forms 4507 and 4523, respectively, in accordance with the provisions of those parts.

§ 203.4 [Amended]

8. In § 203.4:

a. In paragraph (a), remove the words “Tariffs Division” and add, in their place, the words “Pricing and Multilateral Affairs Division”.

b. In paragraph (b), remove the reference “§ 221.175” and add, in its place, the reference “§ 221.105”.

PART 204—DATA TO SUPPORT FITNESS DETERMINATIONS

9. The authority citation for part 204 continues to read as follows:

Authority: 49 U.S.C. Chapters 401, 411, and 417.

10. In § 204.2, paragraphs (b) and (e) are revised to read as follows:

§ 204.2 Definitions.

* * * * *

(b) Certificate authority means authority to provide air transportation granted by the Secretary of Transportation in the form of a certificate of public convenience and necessity under 49 U.S.C. 41102 or an all-cargo air transportation certificate to perform all-cargo air transportation under 49 U.S.C. 41103. Certificated carriers are those that hold certificate authority, including those carriers operating by law under the regulatory provisions under the Department's predecessor.

* * * * *

(e) Eligible place means a place in the United States that meets the specified criteria outlined in Chapter 417 of 49 U.S.C.

* * * * *

§ 204.4 [REMOVED AND RESERVED]

11. Section 204.4 is removed and reserved.

§ 204.5 [Amended]

12. Amend § 204.5 as follows:

a. In § 204.5, in paragraph (c), at the end of the sentence, remove the words “Washington, DC 20590, or by electronic submission at http://dms.dot.gov.” and add, in their place, the words “1200 New Jersey Avenue SE, Washington, DC 20590, or by electronic submission at http://www.regulations.gov.”

b. In § 204.5, in paragraph (d), at the end of the sentence, remove the words “Washington, DC 20590.” and add, in their place, the words “1200 New Jersey Avenue SE, Washington, DC 20590.”

§ 204.7 [Amended]

13. In § 204.7, in paragraph (b), in the second sentence, remove the words “Documentary Services Division, Department of Transportation” and add, in their place, the words “Docket Operations Office, U.S. Department of Transportation.”

PART 205—AIRCRAFT ACCIDENT LIABILITY INSURANCE

14. The authority citation for part 205 continues to read as follows:

Authority: 49 U.S.C. Chapters 401, 411, 413, and 417.

§ 205.4 [Amended]

15. In § 205.4, in paragraph (a), remove the reference “http://ostpxweb.dot.gov” and add, in its place, “https://www.transportation.gov/policy/aviation-policy/licensing/US-carriers”.

§ 205.6 [Amended]

16. In § 205.6, revise the section heading and paragraph (b)(2) to read as follows:

§ 205.6 Prohibited exclusion of coverage.

* * * * *

(b) * * *

(2) Liability assumed by the carrier under an agreement to raise the liability limitations of the Warsaw Convention by signing a counterpart to an agreement of carriers (such as the Montreal Agreement, 18900, signed May 13, 1966, agreeing to a limit on the carrier's liability for injury or death of passengers of $75,000 per passenger), or any amendment to such agreement that may be approved by the Department and to which the carrier becomes a party.

PART 207—[REMOVED]

17. Part 207 is removed.

PART 208—[REMOVED]

18. Part 208 is removed.

PART 211—APPLICATIONS FOR PERMITS TO FOREIGN AIR CARRIERS

19. The authority citation for part 211 continues to read as follows:

Authority: 49 U.S.C. 40101, 40102, 41101, 41301, and 41703.

§ 211.2 [Amended]

20. In § 211.2, paragraph (b), remove the words “subpart F” and add, in their place, the words “subpart E”.

§ 211.20 [Amended]

21. In § 211.20, in paragraph (c)(2)(i), at the end of the sentence, remove the colon and add, in its place, a semicolon.

§ 211.31 [Amended]

22. In § 211.31, in paragraph (d), at the end of the sentence, remove the word “required.” and add, in its place, the words “required; and”.

§ 211.32 [Amended]

23. In § 211.32, remove the words “section 801(a) of the Federal Aviation Act” and add, in their place, the words “49 U.S.C. 41307”.

PART 212—CHARTER RULES FOR U.S. AND FOREIGN DIRECT AIR CARRIERS

24. The authority citation for part 212 continues to read as follows:

Authority: 49 U.S.C. 40101, 40102, 40109, 40113, 41101, 41103, 41702, 41708, 41712, and 46101.

§ 212.3 [Amended]

25. In § 212.3, paragraph (c)(i) is redesignated as “paragraph(c)(1)”.

§ 212.10 [Amended]

26. In § 212.10, in paragraph (e)(1), in the first sentence, remove the words “part in interest” and add, in their place, the word “person”.

§ 212.11 [Amended]

27. In § 212.11, in paragraph (b)(1), remove the words “authority sought to covered” and add, in their place, the words “authority sought is covered”.

PART 214—TERMS, CONDITIONS, AND LIMITATIONS OF FOREIGN AIR CARRIER PERMITS AUTHORIZING CHARTER TRANSPORTATION ONLY

28. Part 214 is amended by adding an authority citation to read as follows:

Authority: 49 U.S.C. 40101, 40102, 40109, 40113, 41504, 41708, 41712, and 46101.

PART 215—USE AND CHANGE OF NAMES OF AIR CARRIERS, FOREIGN AIR CARRIERS AND COMMUTER AIR CARRIERS

29. The authority citation for part 215 continues to read as follows:

Authority: 49 U.S.C. Chapters 401, 411, 413, 417.

30. Section 215.1 is revised to read as follows:

§ 215.1 Applicability.

This part applies to all certificated air carriers, commuter air carriers, and foreign direct air carriers and to initial and amended applications for authority, applications for certificate or permit transfers or reissuances, and registration of business names.

§ 215.4 [Amended]

31. In § 215.4:

a. In paragraph (a), in the last sentence, remove the words “Licensing Division” and add, in their place, the words “Foreign Air Carrier Licensing Division”.

b. In paragraph (b), remove the words “Docket 17325.” and add, in their place, the words “Docket DOT-OST-1995-236.”

PART 216—COMMINGLING OF BLIND SECTOR TRAFFIC BY FOREIGN AIR CARRIERS

32. The authority citation for part 216 continues to read as follows:

Authority: 49 U.S.C. Chapters 401, 413, and 417.

33. Throughout part 216, remove the words “Board” and “Board's” wherever they appear, and add, in their place, the words “Department” and “Department's”.

§ 216.1 [Amended]

34. In § 216.1, in paragraph (a), remove the word “Act” from the list of definitions; in paragraph (b), remove the words “section 101 of the Act” and add, in their place, the words “49.U.S.C. 40102”.

§ 216.3 [Amended]

35. In § 216.3, remove the words “section 402 of the Act” and add, in their place, the words “49 U.S.C. 41301”.

§ 216.4 [Amended]

36. In § 216.4, in paragraph (a), remove the words “Director, Bureau of International Aviation.” and add, in their place, the words “Director, Office of International Aviation.”

PART 217—REPORTING TRAFFIC STATISTICS BY FOREIGN AIR CARRIERS IN CIVILIAN SCHEDULED, CHARTER, AND NONSCHEDULED SERVICES

37. The authority citation for part 217 is revised to read as follows:

Authority: 49 U.S.C. 329, 41102, 41301, 41708, and 41709.

§ 217.10 [Amended]

38. In the Appendix to Section 217.10, remove paragraphs (a)(5), (a)(6), and (a)(7).

§ 217.11 [Amended]

39. In § 217.11, paragraph (b), remove the words “subject to a maximum fine of $10,000 or imprisonment for not more than 5 years, or both,”.

PART 218—LEASE BY FOREIGN AIR CARRIER OR OTHER FOREIGN PERSON OF AIRCRAFT WITH CREW

40. The authority citation for part 218 is revised to read as follows:

Authority: 49 U.S.C. 40113, and 41301.

§ 218.2 [Amended]

41. In § 218.2, remove the words “section 402 of the Act” and add, in their place, the words “49 U.S.C. 41301”.

§ 218.3 [Amended]

42. Amend § 218.3 as follows:

(a) In paragraph (a)(1), remove the words “section 402 of the Act” and add, in their place, the words “section 41301 of 49 U.S.C.”.

(b) In paragraph (a)(2), remove the words “section 416 of the Act” and add, in their place, the words “section 40109 of 49 U.S.C.”.

(c) In paragraphs (a)(2) and (a)(3), remove the word “Board” and add, in its place, the word “Department”.

§ 218.5 [Amended]

43. In § 218.5, remove the word “Board” each place it appears, and add, in its place, the word “Department”.

§ 218.6 [Amended]

44. In § 218.6, remove the word “Board” and add, in its place, the word “Department”.

PART 221—TARIFFS

45. The authority citation for part 221 continues to read as follows:

Authority: 49 U.S.C. 40101, 40109, 40113, 46101, 46102, chapter 411, chapter 413, chapter 415 and chapter 417, subchapter I.

46. § 221.105 is revised to read as follows:

§ 221.105 Special notice of limited liability under international treaty.

(a)(1) In addition to the other requirements of this subpart, each air carrier and foreign air carrier which, to any extent, avails itself of the limitation on liability to passengers provided by an international treaty, shall, at the time of delivery of the ticket, furnish to each passenger whose transportation is governed by the international treaty and whose place of departure or place of destination is in the United States, the following statement in writing:

Advice to International Passengers on Limitations of Liability

Passengers embarking upon a journey involving an ultimate destination or a stop in a country other than the country of departure are advised that the provisions of an international treaty (the Warsaw Convention, the 1999 Montreal Convention, or other treaty), as well as a carrier's own contract of carriage or tariff provisions, may be applicable to their entire journey, including any portion entirely within the countries of departure and destination. The applicable treaty governs and may limit the liability of carriers to passengers for death or personal injury, destruction or loss of, or damage to, baggage, and for delay of passengers and baggage.

Additional protection can usually be obtained by purchasing insurance from a private company. Such insurance is not affected by any limitation of the carrier's liability under an international treaty. For further information please consult your airline or insurance company representative.

(2) The statement prescribed herein shall be printed or displayed in type at least as large as 10-point modern type and in ink contrasting with the stock on:

(i) Each ticket, including electronic tickets;

(ii) A piece of paper either placed in the ticket envelope with the ticket or attached to the ticket; or

(iii) The ticket envelope.

(3) When a carrier is a signatory of a Department-approved intercarrier agreement implementing an international treaty, and such agreement contains specific text a carrier may use as a notice to international passengers regarding carrier liability, the carrier may substitute the exact text contained in the intercarrier agreement in lieu of the required text of the notice quoted in paragraph (a)(1) of this section.

(b) By December 31, 2019, each air carrier and foreign air carrier which, to any extent, avails itself of the limitation on liability to passengers provided by an international treaty, shall also cause to be displayed continuously in a conspicuous public place at each desk, station, and position in the United States which is in the charge of a person employed exclusively by it or by it jointly with another person, or by any agent employed by such air carrier or foreign air carrier to sell tickets to passengers whose transportation may be governed by an international treaty and whose place of departure or destination may be in the United States, a sign which shall have printed thereon the statement prescribed in paragraph (a)(1) of this section.

(c) It shall be the responsibility of each carrier to insure that travel agents authorized to sell air transportation for such carrier comply with the notice provisions of paragraphs (a) and (b) of this section.

(d) Any air carrier or foreign air carrier subject to the provisions of this section which wishes to use a notice of limited liability of its own wording, but containing the substance of the language prescribed in paragraphs (a) and (b) of this section, may substitute a notice of its own wording upon approval by the Department.

(e) The requirements as to time and method of delivery of the notice (including the size of type) specified in paragraphs (a) and (b) of this section and the requirement with respect to travel agents specified in paragraph (c) of this section may be waived by the Department upon application and showing by the carrier that special and unusual circumstances render the enforcement of the regulations impractical and unduly burdensome and that adequate alternative means of giving notice are employed.

(f) Applications for relief under paragraphs (d) and (e) of this section shall be filed with the Department's Office of International Aviation not later than 15 days before the date on which such relief is requested to become effective.

(g) Notwithstanding any other provisions of this section, no air taxi operator subject to part 298 of this subchapter shall be required to give the notices prescribed in this section, either in its capacity as an air carrier or in its capacity as an agent for an air carrier or foreign air carrier.

§ 221.106 [REMOVED AND RESERVED]

47. § 221.106 is removed and reserved.

PART 222—INTERMODAL CARGO SERVICES BY FOREIGN AIR CARRIERS

48. The authority citation for part 222 is revised to read as follows:

Authority: 49 U.S.C. 40113 and 41301.

§ 222.2 [Amended]

49. In § 222.2, in paragraphs (a) and (d), remove the word “Board” each place it appears, and add, in its place, the word “Department”.

50. In § 222.3, paragraphs (a) and (b) are revised to read as follows:

§ 222.3 Application for Statement of Authorization.

(a) Application for a Statement of Authorization shall be filed with the Department's Foreign Air Carrier Licensing Division, Office of International Aviation, in duplicate, on OST Form 4500. In most cases, the Department will act upon applications for Statements of Authorization within 60 days.

(b) Persons objecting to an application for a Statement of Authorization shall file their objections with the Foreign Air Carrier Licensing Division, Office of International Aviation, within 28 days of the filing date of the application. The Department will list the names and nationalities of all persons applying for Statements of Authorization in its Weekly Summary of Filings.

* * * * *

§ 222.4 [Amended]

51. In § 222.4, in paragraphs (a), remove the word “Board” and add, in its place, the word “Department”; in paragraph (a)(1) remove the words “CAB Form 222” and add, in their place, the words “OST Form 4500”, and remove the words “Form 222” and add, in their place, the words “Form 4500”; in paragraph (b), remove the word “Board's” and add, in its place, the word “Department's”.

§ 222.5 [Amended]

52. In § 222.5, remove the word “Board” each place it appears, and add, in its place, the word “Department”.

PART 222—APPENDIX [REMOVED]

53. Appendix A to Part 222-CAB Form 222 is removed.

PART 223—FREE AND REDUCED-RATE TRANSPORTATION

54. The authority citation for part 223 is revised to read as follows:

Authority: 49 U.S.C. 40113, 40114, and 41711.

55. Section 223.1 is revised to read as follows:

§ 223.1 Definitions.

As used in this part, unless the context otherwise requires:

An affiliate of a carrier means a person:

(a) Who controls that carrier, or is controlled by that carrier or by another person who controls or is controlled by that carrier; and

(b) Whose principal business in purpose or in fact is:

(1) The holding of stock in one or more carriers;

(2) Transportation by air or the sale of tickets therefor;

(3) The operation of one or more airports, one or more of which are used by that carrier or by another carrier who controls or is controlled by that carrier or that is under common control with that carrier by another person; or

(4) Activities related to the transportation by air conducted by that carrier or by another carrier that controls or is controlled by that carrier or which is under common control with that carrier by another person.

Air carrier means the holder of a certificate of public convenience and necessity issued by the Department under 49 U.S.C. 41102 authorizing the carriage of persons. This definition is applicable to a holder of a certificate issued by the Civil Aeronautics Board before its sunset in 1984.

Attendant means any person required by a passenger with a disability in order to travel, whether or not that person's services are required while the passenger with a disability is in an aircraft.

Carrier means:

(a) An air carrier;

(b) An all-cargo air carrier operating under 49 U.S.C. 41102, 41103.

(c) A foreign air carrier;

(d) An intrastate carrier;

(e) An air taxi (including a commuter air carrier) operating under parts 294 or 298 of this chapter; and

(f) Any person operating as a common carrier by air, or in the carriage of mail by air, or conducting transportation by air, in a foreign country.

Delivery flight means a flight from a point in the United States where a carrier has taken delivery of a newly manufactured aircraft to any point or points on its route system.

Foreign air carrier means the holder of a permit issued by the Department under 49 U.S.C. 41302 authorizing the carriage of persons. This definition is applicable to a holder of a certificate issued by the Civil Aeronautics Board before its sunset in 1984.

Free transportation means the carriage by an air carrier or foreign air carrier of any person or property (other than property owned by that carrier) in air transportation without compensation therefore.

Inaugural flight means a flight on an aircraft type being introduced by a carrier for the first time on a route, even if that aircraft type has been used by that carrier on other routes or on that route by other carriers.

Passenger with a disability means any person who has a physical or mental impairment (other than drug addiction or alcoholism), that substantially limits one or more major life activities.

Pass means a written authorization, other than actual ticket stock, issued by a carrier for free or reduced-rate transportation of persons or property.

Reduced-rate transportation means the carriage by an air carrier or foreign air carrier of any person or property (other than property owned by such carrier) in air transportation for a compensation less than that specified in the tariffs of that carrier on file with the Department and otherwise applicable to such carriage.

Retired means:

(a) With respect to carrier directors, officers, and employees, persons receiving retirement benefits from any carrier;

(b) With respect to the general public, persons not regularly working at a full-time paying job, and not intending to do so in the future.

§ 223.2 [Amended]

56. In § 223.2, in paragraph (a), remove the words “section 401 of the Act” and add, in their place, the words “section 41102 of 49 U.S.C.”.

§ 223.6 [Amended]

57. In § 223.6, in paragraph (c), remove the word “Board” and add, in its place, the word “Department”.

§ 223.21 [Amended]

58. In § 223.21, in paragraph (a), remove the words “section 403(b) of the Act” and add, in their place, the words “section 41511 of 49 U.S.C.”.

§ 223.22 [Amended]

59. In § 223.22, in the introductory text, remove the words “sections 403 and 404(b) of the Act” and add, in their place, the words “sections 41510 and 41310(b) of 49 U.S.C.”; in paragraphs (b) and (b)(1), remove the word “Board” and add, in its place, the word “Department”.

§ 223.23 [Amended]

60. In § 223.23, in paragraph (a) remove the word “Board” and add, in its place, the word “Department”.

§ 223.25 [Amended]

61. § 223.25, in paragraph (c), remove the word “Board” and add, in its place, the word “Department”.

PART 232 [REMOVED]

62. Part 232 is removed.

PART 234—AIRLINE SERVICE QUALITY PERFORMANCE REPORTS

63. The authority citation for part 234 is revised to read as follows:

Authority: 49 U.S.C. 329, 41708, and 41709.

PART 240—INSPECTION OF ACCOUNTS AND PROPERTY

64. The authority citation for part 240 is added to read as follows:

Authority: 49 U.S.C. 40113, 40114, 41711, 41708, and 41709.

65. Section 240.1 is revised to read as follows:

§ 240.1 Interpretation.

(a) In the exercise of the authority granted by 49 U.S.C. 41709, the authority of any special agent or auditor to inspect and examine lands, buildings, equipment, accounts, records, memorandums, papers or correspondence shall include the authority to make such notes and copies thereof as he or she deems appropriate.

(b) The term “special agent” and “auditor” are construed to mean any employee of the Office of Aviation Enforcement and Proceedings and any other employee of the Department specifically designated by it or by the Director, Office of Security.

(c) The issuance in the form set forth below of an identification card and credentials to any such employee shall be construed to be an order and direction of the Department to such individual to inspect and examine lands, buildings, equipment, accounts, records, and memorandums in accordance with the authority conferred on the Department by 49 U.S.C. Subtitle VII.

THE UNITED STATES OF AMERICA, DEPARTMENT OF TRANSPORTATION, OFFICE OF THE SECRETARY OF TRANSPORTATION

[photo]

[number]

[expiration date]

IS APPOINTED

[title]

The bearer of this credential whose name and photograph appear hereon is authorized to enter upon, to inspect, and examine lands, buildings (including airport facilities), and equipment (including aircraft) of air carriers and foreign air carriers, and to inspect and copy records and papers of air carriers, foreign air carriers and ticket agents, in performance of his/her duties under 49 U.S.C. 41709, related acts, and regulations of the Department.

BY DIRECTION OF THE SECRETARY

§ 240.2 [Amended]

66. In § 240.2, remove the word “Board” and add, in its place, the word “Department”; remove the word “him” and add, in its place, the words “him or her”; remove the word “he” and add, in its place, the words “he or she”.

PART 241—UNIFORM SYSTEM OF ACCOUNTS AND REPORTS FOR LARGE CERTIFICATED AIR CARRIERS

67. The authority citation for part 241 is revised to read as follows:

Authority: 49 U.S.C. 329, 41101, 41708, and 41709.

Section 01 [Removed and Reserved]

68. In part 241, section 01 is removed and reserved.

69. In part 241, Section 03, remove the definition “Act” from where it appears in the section; the definitions for “Air transportation, charter” and “Route, certificated” are revised to read as follows:

Section 03 Definitions for Purposes of This System of Accounts and Reports

* * * * *

Air transportation, charter. Air transportation authorized pursuant to 49 U.S.C. 41102.

* * * * *

Route, certificated. The route(s) over which an air carrier is authorized to provide air transportation by a Certificate of Public Convenience and Necessity issued by the Department of Transportation pursuant to 49 U.S.C. 41102. This definition is applicable to an air carrier issued a Certificate of Public Convenience by the Civil Aeronautics Board before its sunset in 1984.

* * * * *

Section 04 [AMENDED]

70. In part 241, Section 04, in paragraph (b), in the third sentence, remove the words “The Office of Airline Statistics” and add, in their place, “The Office of Airline Information”.

Section 12 [AMENDED]

71. In part 241, Section 12-77, in the last sentence of paragraph (b), remove the words “, in the absence of such action by the Civil Aeronautics Board,”.

Section 19 [AMENDED]

72. In part 241, Sec. 19-6(b)(2), in the first sentence, remove the words “Department under Title IV of the Federal Aviation Act of 1958, as amended,” and add, in their place, the words “Department under 49 U.S.C. Subtitle VII,”.

73. In part 241, Sec. 19-7(a), in the last sentence, remove the word “K-25” and add, in its place, the word “RTS-42”.

74. In Appendix A to part 241 Sec. 19-7, subsection I.B. Narrative Description, in the first paragraph, remove the last sentence and add, in its place, the sentence “The authority for these instructions is found in 14 CFR part 241, section 19-7.”

Section 21 [AMENDED]

75. In part 241, Section 21(a), remove the words “subject to the Federal Aviation Act of 1958, as amended,”; remove the words “Civil Aeronautics Board” and add, in their place, the word “BTS”.

Section 22 [AMENDED]

76. In part 241, Section 22, General Reporting Instructions, in the List of Schedules in the BTS Form 41 Report, for Schedule No. P-2, in the title, remove the word “RSPA” and add, in its place, the word “BTS”; in paragraphs (c) and (j), remove the word “Board” each place it appears, and add, in its place, the word “BTS”.

Section 24 [AMENDED]

77. In part 241, Section 24, Schedule P-5.1, in paragraph (e), in the fourth sentence, remove the words “Board's Information Management Division” and add, in their place, the words “Office of Airline Information, RTS-42”.

PART 243—PASSENGER MANIFEST INFORMATION

78. The authority citation for part 243 continues to read as follows:

Authority: 49 U.S.C. 40101, 40101nt., 40105, 40113, 40114, 41708, 41709, 41711, 41501, 41702, 41712, 44909, 46301, 46310, 46316; section 203 of Pub. L. 101-604, 104 Stat. 3066 (22 U.S.C. 5501-5513), Title VII of Pub. L. 104-264, 110 Stat. 3213 (22 U.S.C. 5501-5513) and Pub. L. 105-148, 111 Stat. 2681 (49 U.S.C. 41313).

§ 243.11 [Amended]

79. In § 243.11, in paragraph (c), remove the words “Family Support Services” and add, in their place, the words “Transportation Disaster Assistance”.

§ 243.13 [Amended]

80. In § 243.13, in paragraph (c), remove the words “Dockets Facility (SVC-121.30)” and add, in their place, the words “Dockets Management Facility (M-90)”; also remove the words “by July 1, 1998, or, for covered airlines beginning operations after July 1, 1998,”..

PART 247—DIRECT AIRPORT-TO-AIRPORT MILEAGE RECORDS

81. The authority citation for part 247 continues to read as follows:

Authority: 49 U.S.C. chapter 401.

§ 247.1 [Amended]

82. In § 247.1, remove the words “Titles IV and X of the Federal Aviation Act of 1958, as amended” and add, in their place, the words “Subtitle VII of Title 49 of the United States Code (Transportation)”.

PART 248—SUBMISSION OF AUDIT REPORTS

83. The authority citation for part 248 is revised to read as follows:

Authority: 49 U.S.C. 329, 41102, 41708, and 41709.

§ 248.2 [Amended]

84. In § 248.2, in paragraph (b), remove the words “Board's Office of the Comptroller” and add, in their place, the words “BTS' Office of Airline Information”.

PART 249—PRESERVATION OF AIR CARRIER RECORDS

85. The authority citation for part 249 continues to read as follows:

Authority: 49 U.S.C. 329 and chapters 401, 411, 413, and 417.

§ 249.7 [Amended]

86. In § 249.7, in paragraph (b), remove the word “Board” and add, in its place, the word “Department”.

PART 253—NOTICE OF TERMS OF CONTRACT OF CARRIAGE

87. The authority citation for part 253 is revised to read as follows:

Authority: 49 U.S.C. 40113, 40114, 41501, 41504, 41506, 41509, 41510, 41511, 41702, and 41711.

§ 253.7 [Amended]

88. In § 253.7, remove the reference “§ 399.87” and add, in its place, the reference “§ 399.88”.

PART 257—DISCLOSURE OF CODE-SHARING ARRANGEMENTS AND LONG-TERM WET LEASES

89. The authority citation for part 257 continues to read as follows:

Authority: 49 U.S.C. 40113(a), and 41712.

§ 257.3 [Amended]

90. In § 257.3, remove the word “(g)”; remove the reference “49 U.S.C. 40102(40)” and add, in its place, the reference “49 U.S.C. 40102(45)”; the definition of “Designator code” is revised to read as follows:

§ 257.3 Definitions

* * * * *

Designator code means the airline designations originally allotted, administered, and prescribed by the Department of Transportation (DOT), by operation of law, pursuant to 49 U.S.C. Subtitle VII or its predecessor's statutory provisions still in effect by law.

* * * * *

PART 258—DISCLOSURE OF CHANGE-OF-GAUGE SERVICES

91. The authority citation for part 258 continues to read as follows:

Authority: 49 U.S.C. 40113(a) and 41712.

§ 258.3 [Amended]

92. In § 258.3, in paragraph (d), at the end of the sentence, delete the reference “40102(40)” and add, in its place, the reference “40102(a)(45)”.

PART 271—GUIDELINES FOR SUBSIDIZING AIR CARRIERS PROVIDING ESSENTIAL AIR TRANSPORTATION

93. The authority citation for part 271 continues to read as follows:

Authority: 49 U.S.C. Chapters 401 and 417.

94. In § 271.2, in the Definitions, the term “Eligible place” is revised to read as follows:

§ 271.2 [Amended]

* * * * *

Eligible place means a place in the United States that meets the specified criteria outlined in Chapter 417 of 49 U.S.C.

* * * * *

PART 272 [REMOVED AND RESERVED]

95. Part 272 is removed and reserved.

PART 291—CARGO OPERATIONS IN INTERSTATE AIR TRANSPORTATION

96. The authority citation for part 291 is revised to read as follows:

Authority: 49 U.S.C. 329, 41103, 41708, and 41709.

§ 291.45 [Amended]

97. In § 291.45, in the Appendix to 291.45, paragraph (c), remove the organizational code “K-14” and add, in its place “RTS-42”.

§ 291.60 [Amended]

98. In § 291.60, in paragraph (b)(2), in the first sentence, remove the words “Title IV of the Federal Aviation Act of 1958, as amended” and add, in their place, the words “Subtitle VII of Title 49 of the United States Code (Transportation)”.

PART 294—CANADIAN CHARTER AIR TAXI OPERATORS

99. The authority citation for part 294 continues to read as follows:

Authority: 49 U.S.C. Chapters 401 and 417.

100. Throughout part 294, remove the words “Special Authorities Division” and add, in their place, the words “U.S. Air Carrier Licensing/Special Authorities Division”.

§ 294.10 [Amended]

101. In § 294.10, add a period at the end of paragraph (d).

§ 294.30 [Amended]

102. In § 294.30, in paragraph (c), in the first sentence, remove the words “exemption under section 41701” and add, in their place, the words “exemption under 49 U.S.C. 40109”.

PART 296—INDIRECT AIR TRANSPORTATION OF PROPERTY

103. The authority citation for part 296 continues to read as follows

Authority: 49 U.S.C. Chapters 401 and 417.

§ 296.3 [Amended]

104. In § 296.3, at the end of the paragraph, remove the words “the Civil Aeronautics Board” and add, in their place, the words “its predecessor to the extent that those actions, by law, are still in effect”.

PART 297—FOREIGN AIR FREIGHT FORWARDERS AND FOREIGN COOPERATIVE SHIPPERS ASSOCIATIONS

105. The authority citation for part 297 continues to read as follows:

Authority: 49 U.S.C. Chapters 401 and 417.

106. Throughout part 297, remove the words “Aviation Analysis” and add, in their place, the words “International Aviation”.

107. Throughout part 297, remove the words “Special Authorities Division” and add, in their place, the words “U.S. Air Carrier Licensing/Special Authorities Division”.

§ 297.3 [Amended]

108. In § 297.3, in paragraph (b), remove the words “bona fide asociation” and add, in their place, the words “bona fide association”.

PART 298—EXEMPTIONS FOR AIR TAXI AND COMMUTER AIR CARRIER OPERATIONS

109. The authority citation for part 298 is revised to read as follows:

Authority: 49 U.S.C. 329, 41102, 41708, and 41709.

110. In § 298.2, in the list of definitions, the term “Eligible place” is revised to read as follows:

§ 298.2 Definitions.

* * * * *

Eligible place means a place in the United States that meets the specified criteria outlined in Chapter 417 of 49 U.S.C.

* * * * *

§ 298.21 [Amended]

111. In § 298.21:

a. In paragraph (a), remove the words “Program Management Branch” and add, in their place, the words “Technical Programs Branch”.

b. In paragraph (c)(1), remove the words “Program Management Branch, Federal Aviation Administration, AFS-260, or on the World Wide Web at http://www.faa.gov/avr/afs/afs200/afs260/Part298.cfm” and add, in their place, the words “Technical Programs Branch, Federal Aviation Administration, AFS-260 at (202) 267-8166, or on the internet at https://www.faa.gov/about/office_org/headquarters_offices/avs/offices/afx/afs/afs200/afs260/exemptions/”.

c. In paragraph (d), in the first sentence, remove the words “Program Management Branch (AFS-260), 800 Independence Avenue SW, Washington, DC 20591” and add, in their place, the words “Technical Programs Branch (AFS-260), 800 Independence Avenue SW, Room 831, Washington, DC 20591”.

§ 298.23 [Amended]

112. In § 298.23, in paragraph (b), in the first sentence, remove the words “Program Management Branch (AFS-260), 800 Independence Avenue SW, Washington, DC 20591” and add, in their place, the words “Technical Programs Branch (AFS-260), 800 Independence Avenue SW, Room 831, Washington, DC 20591”; in the second sentence, remove the words “Alaskan Region Headquarters (AAL-230), 222 West 7th Avenue, Box 14, Anchorage, Alaska 99513” and add, in their place, the words “Alaskan Region Headquarters Technical Standards Branch, (AAL-231), 222 West 7th Avenue, Box 14, Anchorage, Alaska 99513”.

§ 298.50 [Amended]

113. In § 298.50, in paragraph (a)(3), remove the words “A $670 filing fee in the form of a check, draft, or postal money order payable to the Department of Transportation” and add, in their place, the words “A $670 filing fee submitted in accordance with the provisions of § 389.21”; in paragraph (b), remove the words “Department of Transportation Dockets,” and add, in their place, the words “Docket Operations Office, U.S. Department of Transportation,”.

114. In § 298.60, revise paragraph (a) to read as follows:

§ 298.60 General reporting instruction.

(a) Each commuter air carrier and each small certificated air carrier shall file with the Department's Bureau of Transportation Statistics (BTS) the applicable schedules of BTS Form 298-C, “A Report of Financial and Operating Statistics for Small Aircraft Operators”, and Schedule T-100, “U.S. Air Carrier Traffic and Capacity Data by Nonstop Segment and On-Flight Market”, as required by this section.

* * * * *

§ 298.61 [Amended]

115. In § 298.61 paragraph (a), remove the words “AU.S. Air Carrier Traffic and Capacity Data by Nonstop Segment and On-Flight Market.” ”, and add, in their place, the words “ “U.S. Air Carrier Traffic and Capacity Data by Nonstop Segment and On-Flight Market.” ”; in paragraph (b), remove the words “Schedule T-100 shall be filed monthly as set forth in “298.60.”, and add, in their place, the words “ “Schedule T-100 shall be filed monthly as set forth in § 298.60” ”; and in paragraph (e)(2), remove the organizational code “K-14” and add, in its place “RTS-42”.

§ 298.70 [Amended]

116. In § 298.70, in paragraph (d)(2), remove the words “Title IV of the Federal Aviation Act of 1958, as amended” and add, in their place, the words “Subtitle VII of Title 49 of the United States Code (Transportation)”.

PART 300—RULES OF CONDUCT IN DOT PROCEEDINGS UNDER THIS CHAPTER

117. The authority citation for part 300 continues to read as follows:

Authority: 49 U.S.C. subtitle I and chapters 401, 411, 413, 415, 417, 419, 421, 449, 461, 463, and 465.

§ § 300.0a, 300.8, 300.9, 300.10, 300.10a, 300.11, 300.12, 300.13, 300.14, and 300.16 [REMOVED]

§ § 300.17 through 300.20 [REDESIGNATED AS §§ 300.9 through 300.12]

118. Remove §§ 300.0a, 300.8, 300.9, 300.10, 300.10a, 300.11, 300.12, 300.13, 300.14, and 300.16 and redesignate §§ 300.17 through 300.20 as §§ 300.9 through 300.12, respectively.

§ 300.3 [Amended]

119. In § 300.3:

a. In paragraph (b)(1), remove the word “(DMS)” and add, in its place, the words “(http://www.regulations.gov)”; also remove the words “and Media Management.”

b. In paragraph (b)(3), remove the words “http://dms.dot.gov” and add, in their place, the words “www.regulations.gov”.

c. In paragraph (c)(1), remove the words “and Media Management.”

§ 300.4 [Amended]

120. In § 300.4, in paragraph (c), remove the reference “paragraph (a)”, and, in its place, add the reference “paragraph (b)”; revise paragraph (d) to read as follows:

§ 300.4 Separation of functions in hearing cases.

* * * * *

(d) In enforcement cases, the Office of the Assistant General Counsel for Aviation Enforcement and Proceedings, under the supervision of the career Deputy General Counsel and the General Counsel, will conduct all enforcement proceedings and related investigative functions, while the non-career Deputy General Counsel will advise the DOT decisionmaker in the course of the decisional process. The Office of the Assistant General Counsel for Aviation Enforcement and Proceedings will report to the career Deputy General Counsel and the General Counsel. To ensure the independence of these functions, this Office and the General Counsel, for the purpose of this section, shall be considered an “office” as that term is used in paragraph (b), separate from the non-career Deputy General Counsel and the rest of the Office of the General Counsel.

§ 300.8 [Removed and Reserved]

121. Remove and reserve § 300.8.

§ 300.15 [REDESIGNATED AS § 300.8 AND AMENDED]

122. Redesignate § 300.15 as § 300.8; remove the word “(a)”; and remove paragraph (b) from the newly redesignated § 300.8.

PART 302—RULES OF PRACTICE IN PROCEEDINGS

123. The authority citation for part 302 is revised to read as follows:

Authority: 39 U.S.C. 5402; 42 U.S.C. 4321, 49 U.S.C. Subtitle I and Chapters 401, 411, 413, 415, 417, 419, 461, 463, and 471.

§ 302.3 [Amended]

124. In § 302.3:

a. In paragraph (a)(1), in the second sentence, remove the words “the DOT Dockets Management System (DMS) internet website” and add, in their place, the words “http://www.regulations.gov”.

b. In paragraph (c), in the third sentence, remove the words “the specified DOT DMS internet website” and add, in their place, the words “http://www.regulations.gov”.

c. In paragraph (d)(1)(ii), in the first sentence, remove the words “the DOT DMS internet website” and add, in their place, the words “http://www.regulations.gov”.

§ 302.4 [Amended]

125. In § 302.4, remove the words “the DOT DMS internet website” each place they appear, and add, in their place, the words “http://www.regulations.gov”.

§ 302.7 [Amended]

126. In § 302.7, remove the word “§ 302.4(a)(2)(iv)” each place it appears, and add, in its place, the word “§ 302.4(a)(2)(i)(D)”.

127. In § 302.24, paragraphs (g)(1)(iii) through (vi), (g)(1)(viii), (g)(1)(ix), (g)(1)(xiv) through (xx), and (g)(2) and (3) are revised to read as follows:

§ 302.24 Evidence.

* * * * *

(g) * * *

(1) * * *

(iii) Reports of Traffic and Financial Data of all U.S. Air Carriers issued by the Department or by its predecessor.

(iv) Airline Traffic Surveys and Passenger Origin-Destination Surveys, Domestic or International, compiled by the Department or its predecessor and published and/or made available either to the public or to parties in proceedings.

(v) Compilations of data relating to competition in the airline industry and made available to the public by the Department or its predecessor.

(vi) Passenger, mail, express, and freight data submitted to the Department and its predecessor as part of ER-586 Service Segment Data by U.S. carriers, or similar data submitted to the Department by U.S. air carriers (T-100) or (T-100F) that are not confidential.

(vii) * * *

(viii) Service Mail Pay and Subsidy for U.S. Certificated Air Carriers published by the Department or its predecessor, including any supplemental data and subsequent issues published by the Department or its predecessor.

* * * * *

(xii) Chart Supplements, issued by the FAA.

(xiii) * * *

(xiv) Monthly, quarterly and annual reports of the Immigration and Naturalization Service, U.S. Department of Justice.

(xv) All forms and reports required by the U.S. Postal Service to be filed by air carriers authorized to transport mail.

(xvi) All orders of the Postmaster General designating schedules for the transportation of mail.

(xvii) Publications of the Bureau of the Census of the U.S. Department of Commerce (DOC) relating, but not necessarily limited, to population, manufacturing, business, statistics, and any yearbooks, abstracts, or similar publications published by DOC.

(xviii) All Official Airline Guides, including the North American, Worldwide, All-Cargo and quick reference editions, including electronic versions.

(xix) Official Railways Guide and Russell's Official National Motor Coach Guide.

(xx) The Rand McNally Commercial Atlas and Marketing Guide, and the Rand McNally Road Atlas, United States, Canada, and Mexico.

(2) Any fact contained in a document belonging to a category enumerated in paragraph (g)(1) of this section shall be deemed to have been physically incorporated into and made part of the record in such proceedings. However, such taking of official notice shall be subject to the rights granted to any party or intervener to the proceeding under section 7(d) of the Administrative Procedure Act (5 U.S.C. 557(d)).

(3) The decisions of the Department and its administrative law judges may officially notice any appropriate matter without regard to whether or not such items are contained in a document belonging to the categories enumerated in paragraph (g)(1) of this section. However, where the decision rests on official notice of a material fact or facts, it will set forth such items with sufficient particularity to advise interested persons of the matters that have been noticed.

* * * * *

128. Throughout Subpart D, remove the word “Deputy” wherever it appears.

§ 302.401 [Amended]

129. In § 302.401, remove the words “Subtitle VII of”.

130. In § 302.603, paragraph (b) is revised to read as follows:

§ 302.603 Contents of complaint or request for determination.

* * * * *

(b) All exhibits and briefs prepared on electronic spreadsheet or word processing programs should be accompanied by standard-format electronic media containing those submissions. Parties should submit three copies the electronic media to Department of Transportation Dockets Operations Office: One copy for the docket, one copy for the Office of Hearings, and one copy for the Office of Aviation Analysis. Filers should ensure that files on the electronic media are unalterably locked.

PART 303— REVIEW OF AIR CARRIER AGREEMENTS

131. The authority citation for part 303 continues to read as follows:

Authority: 49 U.S.C. chapters 401, 413, and 417.

132. The introductory text to § 303.01 is revised to read as follows:

§ 303.01 Purpose.

These regulations set forth the procedures by which applications may be made to the Department of Transportation under 49 U.S.C. 41308 and 41309 and procedures governing proceedings to enforce these provisions. These regulations and procedures supplement the rules described in part 302 of this chapter, which also apply to the review of air carrier agreements.

133. Section 303.02 is revised to read as follows:

§ 303.02 Definitions.

(a) The term Assistant Secretary means the Assistant Secretary for Aviation and International Affairs, or as delegated. As provided in 49 CFR 1.21, the Secretary or Deputy Secretary may exercise any authority in lieu of the Assistant Secretary under the provisions of this part.

(b) The term documents means (1) all written, recorded, transcribed or graphic matter including letters, telegrams, memoranda, reports, studies, forecasts, lists, directives, tabulations, logs, or minutes and records of meetings, conferences, telephone or other conversations or communications; and (2) all information contained in data processing equipment or materials. The term does not include daily or weekly statistical reports in whose place an annual or monthly summary is submitted.

(c) The term hearing means either a show-cause proceeding as provided in § 303.44 of this part or a full evidentiary hearing as provided in § 303.45 of this part, whichever is determined by the Assistant Secretary to be appropriate.

(d)-(g) [Reserved]

(h) The term Section 41309 transaction means any contract, agreement or discussion of a cooperative working arrangement within the scope of 49 U.S.C. 41309.

(i) [Reserved]

134. Section 303.3 is revised to read as follows:

§ 303.03 Requirement to file application.

A person who seeks approval of a section 41309 transaction must file the application with the Docket Operations Office, M-30, U.S. Department of Transportation, 1200 New Jersey Avenue SE, Washington, DC 20590, or by electronic submission at http://www.regulations.gov. The application must conform to the requirements set forth in §§ 303.04 and 303.05 of this part.

135. Section 303.04(i) is revised to read as follows:

§ 303.04 General rules governing application content, procedure and conditions of approval.

* * * * *

(i) The person submitting the application to the Department shall send a complete copy of the application to the Chief, Transportation Section, Antitrust Division of the Department of Justice, at the same time as it is filed with the Docket Operations Office.

* * * * *

136. Section 303.05(a) is revised to read as follows:

§ 303.05 Applications requesting antitrust immunity.

(a) Each application must state explicitly whether or not the applicant seeks antitrust immunity under the provisions of 49 U.S.C. 41308. If antitrust immunity is requested, the application should specify whether the applicant seeks full immunity or immunity only from the provisions of sections 4, 4a and 4c of the Clayton Act, 15 U.S.C. 15, 15a, 15c. Each application seeking antitrust immunity shall contain a statement explaining why the applicant believes immunity is in the public interest and necessary in order for the transaction to proceed.

* * * * *

137. Section 303.06 is revised to read as follows:

§ 303.06 Review of antitrust immunity.

The Assistant Secretary may initiate a proceeding to review any antitrust immunity previously conferred by the Department's predecessor or the Department in any section 41309 transaction. The Assistant Secretary may terminate or modify such immunity if the Assistant Secretary finds after notice and hearing that the previously conferred immunity is not consistent with the provisions of section 41308. In any proceeding to review such immunity, the proponents of the immunity shall have the burden of justifying the continuation of previously conferred immunity under the provisions of section 41308.

138. Section 303.07 is revised to read as follows:

§ 303.07 Transitional rule.

If a section 41309 application or a request for antitrust immunity under section 41308 is pending on the date this part is amended, such application or request shall be deemed made pursuant to the provisions of this part, as amended.

139. The title of Subpart D is revised to read as follows:

Subpart D—Section 41309 Applications

140. In § 303.30 the introductory text and paragraph (c) are revised to read as follows:

§ 303.30 General provisions concerning contents of applications.

A Section 41309 application shall contain the following general information:

* * * * *

(c) If the contract, agreement or request for authority to discuss a cooperative working arrangement is evidenced by a resolution or other action of an air carrier association, the application shall contain the resolution or other action and a certification by an authorized employee of the association that the resolution or other action was duly adopted on a certain date. The authorized employee shall also specify in such certification the name of each air carrier that concurred in such resolution or other action and the name of each air carrier member that did not concur.

141. Section 303.31 is revised to read as follows:

§ 303.31 Justification for the application.

A section 41309 application shall explain the nature and purpose of the contract, agreement or request to discuss a cooperative working arrangement and describe how it changes any price, rule, or practice existing under a previously approved application. The application also, consistent with Department of Transportation and the precedent of DOT's predecessor, shall contain factual material, documentation, and argument in support of the application. Economic analyses, when required, shall include full explanatory details, including data sources and allocation methods. If the applicants intend to rely upon market data sources, other than those available to the public by the Department, the complete market data shall be included with the application at the time of filing. If the applicants intend to rely on public benefits to justify approval, they shall describe these benefits, including foreign policy and comity considerations.

§ 303.32 [Amended]

142. In § 303.32(a), in the first sentence, remove the words “412 application” and add, in their place, the words “41309 application”.

143. In § 303.42, paragraph (a) is revised to read as follow:

§ 303.42 Comments on application.

(a) Unless a different comment period is specified by notice or order, or in a notice of filing published in the Federal Register, any person may file comments, responses to the application, and/or a request for a hearing, within 21 days of the filing of an application.

* * * * *

§ 303.43 [Amended]

144. In § 303.43(b), remove the words “412 application” each place they appear, and add, in their place, the words “41309 application”.

PART 305—RULES OF PRACTICE IN INFORMAL NONPUBLIC INVESTIGATIONS

145. The authority citation for part 305 continues to read as follows:

Authority: 49 U.S.C. chapters 401, 417, 461; 5 U.S.C. 555, 556.

146. Throughout the part 305, remove the word “Deputy” wherever it appears.

§ 305.1 [Amended]

147. In § 305.1, remove the words “Title IV or sections 101(3), 1002, 1003, or 1108(b) of the Act” and add, in their place, the words “49 U.S.C. Subtitle VII, Chapter 411 or 49 U.S.C. 40102(2), 41502, 41507, 41508, 41509, 41702, 41703, or 46101”.

148. § 305.7(b) is revised to read as follows:

§ 305.7 Issuance of investigation subpenas.

* * * * *

(b) Witnesses subpoenaed to appear shall be paid the fees and mileage prescribed in § 302.27(c) of the Rules of Practice (14 CFR 302.27(c)). Service of such subpoenas shall be made in accordance with the provisions of (§ 302.7) of the Rules of Practice (14 CFR 302.7).

§ 305.11 [Amended]

149. In § 305.11, remove the word “Deputy” each place it appears; and in the first sentence, remove the words “, and any documentary evidence obtained in the investigation will be returned to the persons who produced it”.

PART 323—TERMINATIONS, SUSPENSIONS, AND REDUCTIONS OF SERVICE

150. The authority citation for part 323 continues to read as follows:

Authority: 49 U.S.C. Chapters 401, 411, and 417.

§ 323.2 [Amended]

151. In § 323.2, the terms “Certificated carrier” and “Eligible place” are revised to read as follows:

§ 323.2 Definitions.

* * * * *

Certificated carrier means a direct air carrier holding authority to provide air transportation granted by the Department of Transportation (“DOT”) in the form of a certificate of public convenience and necessity under section 41102 of the Title 49 of the United States Code (Transportation) or an all-cargo air transportation certificate to perform all-cargo air transportation under 49 U.S.C. 41103.

Eligible place means a place in the United States that meets the specified criteria outlined in Chapter 417 of 49 U.S.C.

* * * * *

PART 325—ESSENTIAL AIR SERVICE PROCEDURES

152. The authority citation for part 325 continues to read as follows:

Authority: 49 U.S.C. Chapters 401 and 417.

§ 325.1 [Amended]

153. In § 325.1, remove the words “under section 419 of the Act” and add, in their place, the words “under 49 U.S.C. 41732”.

154. Section 325.2 is revised to read as follows:

§ 325.2 Applicability.

This part applies to essential air service determinations for communities designated as eligible under 49 U.S.C. 41731 and to eligible place designations and essential air service determinations for communities that qualify under 49 U.S.C. 41732 and 41733. It applies to the gathering of data by the Department, and to the participation of State, local, and other officials and other interested persons in the designation and determination processes.

* * * * *

155. Section 352.3 is revised to read as follows:

§ 325.3 Definitions.

As used in this part, eligible place means a place in the United States that meets the specified criteria outlined in Chapter 417 of 49 U.S.C.

§ 325.4 [Amended]

156. Amend § 325.4 as follows:

a. In § 325.4, in paragraph (a), remove the words “as an eligible point under section 419(b) of the Act” and add, in their place, the words “as an eligible place under 49 U.S.C. 41731”.

b. In paragraph (a)(1), remove the words “section 401 certificate” each place it appears, and add, in their place, the words “section 41102 certificate”.

c. In paragraph (a)(3), remove the words “eligible point” and add, in their place, the words “eligible place”.

d. In paragraph (b), remove the words “Documentary Services Division” and add, in their place, the words “Docket Operations Office”; remove the words “section 419(f) of the Act” and add, in their place, the words “49 U.S.C. 41737”.

e. In paragraph (c), remove the words “eligible point” and add, in their place, the words “eligible place”; remove the words “Documentary Services Division” and add, in their place, the words “Docket Operations Office”.

157. Section 325.5 is revised to read as follows:

§ 325.5 Determinations and designations.

DOT will issue a determination of the essential level of air service for a place within 6 months after each of the following events:

(a) A notice is received that service to an eligible place will be reduced to only one carrier that holds a section 41102 certificate;

(b) A point is designated as an eligible place under 49 U.S.C. 41731 and either paragraph (c) of this section, paragraph (d) of this section, or § 325.7(e); or

(c) A review was conducted of essential air service of that place under § 325.6.

§ 325.6 [Amended]

158. Amend § 325.6 as follows:

a. In paragraph (a), remove the words “eligible points” each place it appears, and add, in their place, the words “eligible places”.

b. In paragraph (c), remove the words “under section 419(b) of a community as an eligible point to determine whether that point continues” and add, in their place, the words “under 49 U.S.C. 41733 to determine whether the community designated as an eligible place continues”.

PART 330 [REMOVED and RESERVED]

159. Part 330 is removed and reserved.

PART 372—OVERSEAS MILITARY PERSONNEL CHARTERS

160. The authority citation for part 372 continues to read as follows:

Authority: 49 U.S.C. Chapters 401, 411, 413, and 417.

§ 372.30 [Amended]

161. In § 372.30, in paragraph (a), remove the words “Office of Aviation Analysis,” and add, in their place, the words “Office of International Aviation”; in paragraph (a)(9), remove the word “applicant” and add, in its place, the word “applicants”.

162. Revise Appendix A to Part 372 to read as follows:

Appendix A to Part 372—Overseas Military Personnel Charter Operator's Surety Bond Under Part 372 of the Regulations of the Department of Transportation (14 CFR Part 372)

Know all persons by these presents, that we __ (name of charter operator) of __ (address) as Principal (hereinafter called “Principal”), and __ (name of surety) a corporation created and existing under the laws of the State of __ (State) as Surety (hereinafter called “Surety”) are held and firmly bound unto the United States of America in the sum of __ (see § 372.24(a), 14 CFR part 372) for which payment, well and truly to be made, we bind ourselves and our heirs, executors, administrators, successors, and assigns, jointly and severally firmly by these presents.

Whereas Principal is an overseas military personnel charter operator pursuant to the provisions of Part 372 of the Department's regulations and other rules and regulations of the Department relating to security for the protection of charter participants, and has elected to file with the Department of Transportation such a bond as will insure financial responsibility with respect to all monies received from charter participants for services in connection with overseas military personnel charters to be operated subject to Part 372 of the Department's Special Regulations in accordance with contracts, agreements, or arrangements therefor, and

Whereas this bond is written to assure compliance by Principal as an authorized charter operator with Part 372 of the Department's regulations, and other rules and regulations of the Department relating to security for the protection of charter participants, and shall inure to the benefit of any and all charter participants to whom Principal may be held legally liable for any damages herein described.

Now, therefore, the condition of this obligation is such that if Principal shall pay or cause to be paid to charter participants any sum or sums for which Principal may be held legally liable by reason of Principal's failure faithfully to perform, fulfill and carry out all contracts, agreements, and arrangements made by Principal while this bond is in effect with respect to the receipt of moneys from charter participants, and proper disbursement thereof pursuant to and in accordance with the provisions of Part 372 of the Department's regulations, then this obligation shall be void, otherwise to remain in full force and effect.

The liability of Surety with respect to any charter participant shall not exceed the charter price paid by or on behalf of such participant.

The liability of Surety shall not be discharged by any payment or succession of payments hereunder, unless and until such payment or payments shall amount in the aggregate to the penalty (face amount) of the bond, but in no event shall Surety's obligation hereunder exceed the amount of said penalty.

Surety agrees to furnish written notice to the Office of International Aviation, Department of Transportation, forthwith of all suits or claims made and judgments rendered, and payments made by Surety under this bond.

This bond shall cover the following Charters: ¹

¹ These data may be supplied in an addendum attached to the bond.

Surety company's bond No.

Date of flight departure

Place of flight departure

This bond is effective on the __ day of __, 12:01 a.m., standard time at the address of Principal as stated herein and as hereinafter provided. Principal or Surety may at any time terminate this bond by written notice to: U.S. Air Carrier Licensing/Special Authorities Division, Office of International Aviation, U.S. Department of Transportation, 1200 New Jersey Avenue SE, Washington, DC 20590, such termination to become effective thirty (30) days after the actual receipt of said notice by the Department. Surety shall not be liable hereunder for the payment of any damages hereinbefore described which arise as a result of any contracts, agreements, undertakings, or arrangements for the supplying of transportation and other services made by Principal after the termination of this bond as herein provided, but such termination shall not affect the liability of the bond hereunder for the payment of any damages arising as a result of contracts, agreements, or arrangements for the supplying of transportation and other services made by Principal prior to the date that such termination becomes effective. Liability of Surety under this bond shall in all events be limited only to a charter participant or charter participants who shall within sixty (60) days after the termination of the particular charter described herein give written notice of claim to the charter operator or, if it is unavailable, to Surety, and all liability on this bond shall automatically terminate sixty (60) days after the termination date of each particular charter covered by this bond except for claims made in the time provided herein.

In witness whereof, the said Principal and Surety have executed this instrument on the ___day of __ 20__.

PRINCIPAL

Name

By: Signature and title

Witness

SURETY

Name

By: Signature and title

Witness

Only corporations may qualify to act as surety and they must meet the requirements set forth in § 372.24(c) of Part 372.

PART 374—[AMENDED]

163. The authority citation for part 374 is revised to read as follows:

Authority: 15 U.S.C. 1601-1693r; 49 U.S.C., Subtitle VIII; and 12 CFR 202 and 1026.

§ 374.3 [Amended]

164. In § 374.3, in paragraph (b), in the first sentence, remove the words “12 CFR part 202” and add, in their place, the words “12 CFR part 1002”; in the first sentence, remove the words “12 CFR part 226” and add, in their place, the words “12 CFR part 1026”.

PART 374a—EXTENSION OF CREDIT BY AIRLINES TO FEDERAL POLITICAL CANDIDATES

165. The authority citation for part 374a continues to read as follows:

Authority: 49 U.S.C. chapters 401, 411, 415, and 417.

166. Section 374a.1 is revised to read as follows:

§ 374a.1 Purpose.

The purpose of this part is to issue rules pursuant to the Federal Election Campaign Act of 1971, as amended, in accordance with the Department's responsibility thereunder.

§ 374a.3 [Amended]

167. In § 374a.3, in the term “Air carrier” remove the words “section 401 of the Federal Aviation Act of 1958, as amended” and add, in their place, the words “49 U.S.C. 41102”.

168. Section 374a.5 is revised to read as follows:

§ 374a.5 Exemption authority.

Air carriers are exempt from the following provisions of Subtitle VII of Title 49 of the United States Code: (a) Section 41510, (b) Section 41310, and any and all other provisions of 49 U.S.C. Subtitle VII, to the extent necessary to enable air carriers to comply with the provisions of this part.

PART 375—NAVIGATION OF FOREIGN CIVIL AIRCRAFT WITHIN THE UNITED STATES

169. The authority citation for part 375 continues to read as follows:

Authority: 49 U.S.C. 40102, 40103, and 41703.

§ 375.1 [Amended]

170. In § 375.1, remove the term “Act”; in the term “Air transportation” remove the words “(see section 101 (10) and (23) of the Federal Aviation Act, 49 U.S.C. 1301)” and add, in their place, the words “(see 49 U.S.C. 40102 (a)(5) and (a)(24))”; in the term “Exemption” remove the words “under section 416(b) of the Act” and add, in their place, the words “under 49 U.S.C. 40109”; in the term “Foreign air carrier permit” remove the words “section 402 of the Act” and add, in their place, the words “49 U.S.C. 41301”; in the term “Foreign aircraft permit” remove the words “section 1108(b) of the Act” and add, in their place, the words “49 U.S.C. 41703”.

§ 375.19 [Amended]

171. In § 375.19, remove the words “section 1108(b) of the Act” each place it appears, and add, in their place, the words “49 U.S.C. 41703”.

§ 375.33 [Amended]

172. In § 375.33, in the last sentence, remove the word “safey” and add, in its place, the word “safety”.

§ 375.35 [Amended]

173. In § 375.35, in paragraph (a)(2), remove the words “section 402 permit” and add, in their place, the words “section 41301 permit”.

§ 375.43 [Amended]

174. In § 375.43, in paragraph (e)(1), remove the words “Aviation Operations” and add, in their place, the words “International Aviation”; in § 375.43, paragraph (a) is revised to read as follows:

§ 375.43 Application for foreign aircraft permit.

(a) Applications for foreign aircraft permits shall be submitted on OST Form 4509 (Appendix A), in duplicate, addressed to the Chief, Foreign Air Carrier Licensing Division, X-45, Office of International Aviation. Applications should be submitted by email; see “Application Procedures under Part 375” at www.transportation.gov/policy/aviation-policy/licensing/foreign-carriers.

* * * * *

§ 375.50 [Amended]

175. Amend § 375.50 as follows:

a. In paragraph (b), in the first sentence, remove the words “Chief, Discrete Operations Branch, Licensing Division, P-45, Office of Aviation Operations” and add, in their place, the words “Chief, Foreign Air Carrier Licensing Division, X-45, Office of International Aviation”.

b. In paragraph (e), remove the words “section 1108(b) of the Act” and add, in their place, the words “section 41703 of 49 U.S.C.”.

c. In paragraph (h), in the first sentence, remove the words “Federal Aviation Act” and add, in their place, the words “49 U.S.C. Subtitle VII”; in the fourth sentence, remove the words “section 402 or 416(b) of the Act” and add, in their place, the words “section 41301 or 41709 of 49 U.S.C.”.

§ 375.60 [Amended]

176. Section 375.60 is revised to read as follows:

§ 375.60 Penalties.

The operation of a foreign aircraft within the United States or over adjacent territorial waters in violation of the provisions of this part constitutes a violation of 49 U.S.C. Subtitle VII and of this chapter, and may, in addition, constitute a violation of the rules of the Federal Aviation Administration. Such operation makes the person or persons responsible for the violation or violations subject to a civil penalty as provided in 49 U.S.C. 46301, and to the alteration, amendment, modification, suspension or revocation of any permit issued under this part and of any U.S. certificate involved as provided in 49 U.S.C. 44709. Engaging in air transportation as defined in 49 U.S.C Subtitle VII by a foreign aircraft without a foreign air carrier permit issued pursuant to 49 U.S.C. 41301 or an exemption, or in violation of the terms of such authority constitutes not only a violation of this part but of Title 49, subtitle VII, as well, which entails a criminal penalty as set forth in 49 U.S.C. 46316.

PART 377—CONTINUANCE OF EXPIRED AUTHORIZATIONS BY OPERATION OF LAW PENDING FINAL DETERMINATION OF APPLICATIONS FOR RENEWAL THEREOF

177. The authority citation for part 377 continues to read as follows:

Authority: 49 U.S.C. Chapters 401 and 461; 5 U.S.C. 558 and 559.

§ 377.1 [Amended]

178. In § 377.1, in the term “Authorization” remove the words “sections 101(3), 401, 402, 408, 409, 412 and 416 of the Federal Aviation Act of 1958, as amended” and add, in their place, the words “49 U.S.C. 40102, 41102, 41302, 41309, and 41708”.

§ § 377.2, 377.3, 377.4, 377.5, 377.10 and 377.11 [Amended]

179. In §§ 377.2, 377.3, 377.4, 377.5, 377.10, and 377.11, remove the word “Board” each place it appears, and add, in its place, the word “Department”.

§ § 377.3, 377.4, and 377.10 [Amended]

180. In §§ 377.3, 377.4, and 377.10, remove the words “section 401 of the Act” and add, in their place, the words “49 U.S.C. 41102”.

§ 377.10 [Amended]

181. In paragraph(c)(3), remove the words “section 402 of the Act and exemptions issued under section 416 ” and add, in their place, the words “section 41301 of 49 U.S.C. and exemptions issued under section 41708 of 49 U.S.C.”.

PART 380—PUBLIC CHARTERS

182. The authority citation for part 380 continues to read as follows:

Authority: 49 U.S.C. 40101, 40102, 40109, 40113, 41101, 41103, 41301, 41504, 41702, 41708, 41712, and 46101.

183. Throughout part 380, remove the words “Office of Aviation Analysis” and add, in their place, the words “Office of International Aviation”.

184. Throughout part 380, remove the words “Special Authorities Division” and add, in their place, the words “U.S. Air Carrier Licensing/Special Authorities Division”.

§ 380.1 [Amended]

185. In § 380.1, remove the words “, formerly Title IV of the Federal Aviation Act of 1958, as amended”.

§ 380.2 [Amended]

186. In § 380.2, in the list of definitions, the term “Foreign Public Charter opertor” is revised to read “Foreign Public Charter operator”.

§ 380.3 [Amended]

187. In § 380.3, in paragraph (b), remove the word “and” and add, in its place, the word “through”.

§ 380.14 [Amended]

188. In § 380.14, at the beginning of the paragraph, remove the word “Noting” and add, in its place, the word “Nothing”.

§ 380.15 [Amended]

189. In § 380.15, remove the word “Subsititues” and add, in its place, the word “Substitutes”.

§ 380.32 [Amended]

190. Amend § 380.32 as follows:

a. In paragraph (j), remove the words “That is a charter” and add, in their place, the words “That if a charter”.

b. In paragraph (q), remove the words “That is the operator” and add, in their place, the words “That if the operator”.

c. In paragraph (t), remove the words “That the participants” and add, in their place, the words “That the participant's”.

d. In paragraph (v), in the second sentence, remove the words “date or arrival” and add, in their place, the words “date of arrival”.

§ 380.34 [Amended]

191. In § 380.34, in paragraph (b)(2)(i), at the end of the paragraph, remove the words “credit cared” and add, in their place, the words “credit card”.

PART 380—APPENDIX A AND B [AMENDED]

192. Revise Appendix A and B to part 380 to read as follows:

Appendix A to Part 380—Public Charter Operator's Surety Bond Under Part 380 of the Regulations of the Department of Transportation (14 CFR Part 380)

Know all persons by these presents, that we __(name of charter operator) of __ (city) __ (state) as Principal (hereinafter called Principal), and __ (name of surety) a corporation created and existing under the laws of the State of __ (State) as Surety (hereinafter called Surety) are held and firmly bound unto the United States of America in the sum of $__ (see 14 CFR 380.34) for which payment, well and truly to be made, we bind ourselves and our heirs, executors, administrators, successors, and assigns, jointly and severally, firmly by these presents.

Whereas Principal intends to become a Public Charter operator pursuant to the provisions of 14 CFR part 380 and other rules and regulations of the Department relating to insurance or other security for the protection of charter participants, and has elected to file with the Department of Transportation such a bond as will insure financial responsibility with respect to all moneys received from charter participants for services in connection with a Public Charter to be operated subject to Part 380 of the Department's regulations in accordance with contracts, agreements, or arrangements therefore, and

Whereas this bond is written to assure compliance by Principal as an authorized charter operator with 14 CFR part 380 and other rules and regulations of the Department relating to insurance and other security for the protection of charter participants, and shall inure to the benefit of any and all charter participants to whom Principal may be held legally liable for any damages herein described.

Now, therefore, the condition of this obligation is such that if Principal shall pay or cause to be paid to charter participants any sum or sums for which Principal may be held legally liable by reason of Principal's failure faithfully to perform, fulfill and carry out all contracts, agreements, and arrangements made by Principal while this bond is in effect with respect to the receipt of moneys from charter participants, and proper disbursement thereof pursuant to and in accordance with the provisions of 14 CFR part 380, then this obligation shall be void, otherwise to remain in full force and effect.

The liability of Surety with respect to any charter participant shall not exceed the charter price paid by or on behalf of such participant.

The liability of Surety shall not be discharged by any payment or succession of payments hereunder, unless and until such payment or payments shall amount in the aggregate to the penalty of the bond, but in no event shall Surety's obligation hereunder exceed the amount of said penalty.

Surety agrees to furnish written notice to the U.S. Air Carrier Licensing/Special Authorities Division, X-44, Office of International Aviation, Department of Transportation, forthwith of all suits or claims filed and judgments rendered, and payments made by Surety under this bond.

The bond shall cover the following charters ¹

¹ These data may be supplied in an addendum attached to the bond.

Surety company's bond No.

Date of flight departure

Place of flight departure

This bond is effective on the __ day of __, 12:01 a.m., standard time at the address of Principal as stated herein and as hereinafter provided. Principal or Surety may at any time terminate this bond by written notice to: “U.S. Air Carrier Licensing/Special Authorities Division (X-44), Office of International Aviation, U.S. Department of Transportation, 1200 New Jersey Avenue SE, W-86-445, Washington, DC 20590,” such termination to become effective thirty (30) days after the actual receipt of said notice by the Department. Surety shall not be liable hereunder for the payment of any damages hereinbefore described which arise as a result of any contracts, agreements, undertakings, or arrangements for the supplying of transportation and other services made by Principal after the termination of this bond as herein provided, but such termination shall not affect the liability of the bond hereunder for the payment of any damages arising as a result of contracts, agreements, or arrangements for the supplying of transportation and other services made by Principal prior to the date that such termination becomes effective. Liability of Surety under this bond shall in all events be limited only to a charter participant or charter participants who shall within sixty (60) days after the termination of the particular charter described herein give written notice of claim to the charter operator or, if it is unavailable, to Surety, and all liability on this bond shall automatically terminate sixty (60) days after the termination date of each particular charter covered by this bond except for claims made in the time provided herein.

In witness whereof, the said Principal and Surety have executed this instrument on the __ day of __, 20__.

PRINCIPAL

Name

By: Signature and title

Witness

Bonding or surety company must be listed in Best's Insurance Reports (Fire and Casualty) with a general policyholders' rating of “A” or better or in the Department of the Treasury listing of companies holding certificates of authority as acceptable sureties on Federal bonds. In addition, the bonding or surety company shall be one legally authorized to issue bonds of that type in the State(s) in which the charter flight(s) originate. Agents must provide satisfactory proof that they have the requisite authority to issue this bond.

Appendix B to Part 380—Public Charter Operator's Surety Trust Agreement

This Trust Agreement is entered into between __ (charter operator) incorporated under the laws of __ with its principal place of business being __ (hereinafter called “Operator”), and __ (Bank) with its principal place of business being __ (hereinafter called “Trustee”), for the purpose of creating a trust to become effective as of the __ day of __, 20 __, which trust shall continue until terminated as hereinafter provided.

Operator intends to become a Public Charter operator pursuant to the provisions of Part 380 of the Department's regulations and other rules and regulations of the Department relating to insurance or other security for the protection of charter participants, and has elected to file with the Department of Transportation such a Surety Trust Agreement as will insure financial responsibility with respect to all monies received from charter participants for services in connection with a Public Charter to be operated subject to Part 380 of the Department's regulations in accordance with contracts, agreements, or arrangements therefore.

This Surety Trust Agreement is written to assure compliance by Operator with the provisions of Part 380 of the Department's regulations and other rules and regulations of the Department relating to insurance or other security for the protection of charter participants. It shall inure to the benefit of any and all charter participants to whom Operator may be held legally liable for any of the damages herein described.

It is mutually agreed by and between Operator and Trustee that Trustee shall manage the corpus of the trust and carry out the purposes of the trust as hereinafter set forth during the term of the trust for the benefit of charter participants (who are hereinafter referred to as “Beneficiaries.”)

Beneficiaries of the trust created by this Agreement shall be limited to those charter participants who meet the following requirements:

1. Those for whom Operator or Operator's agent has received payment toward participation in one or more charters operated by or proposed to be operated by Operator.

2. Who have legal claim or claims for money damages against Operator by reason of Operator's failure faithfully to perform, fulfill, and carry out all contracts, agreements, and arrangements made by Operator while this trust is in effect with respect to the receipt of monies and proper disbursement thereof pursuant to Part 380 of the Department's regulations; and

3. Who have given notice of such claim or claims in accordance with this Trust Agreement, but who have not been paid by Operator.

The operator shall convey to Trustee legal title to the trust corpus, which has a value of $__ by the time of the execution of this Agreement.

Trustee shall assume the responsibilities of Trustee over the said trust corpus and shall distribute from the trust corpus to any and all Beneficiaries to whom Operator, in its capacity as a Public Charter operator, may be held legally liable by reason of Operator's failure faithfully to perform, fulfill, and carry out all contracts, agreements, and arrangements made by Operator, while this trust is in effect with respect to the receipt of monies and proper disbursement thereof pursuant to Part 380 of the Department's regulations in connection with said charters, such damages as will discharge such liability while this trust is in effect; Provided, however, that the liability of the trust to any Beneficiary shall not exceed the charter price (as defined in Part 380 of the Department's regulations) paid by or on behalf of any such Beneficiary; Provided, further, that there shall be no obligation of the trust to any Beneficiary if Operator shall pay or cause to be paid to any Beneficiary any sum or sums for which Operator may be held legally liable by reasons of its failure faithfully to perform, fulfill, and carry out all contracts, agreements, and arrangements made by Operator in its capacity as Public Charter Operator while this trust is in effect with respect to the receipt of monies and proper disbursement thereof pursuant to Part 380 of the Department's regulations; and provided still further, that the liability of the trust as administered by Trustee shall not be discharged by any payment or succession of payments hereunder, unless and until such payment or payments, shall amount in the aggregate to $__. Notwithstanding anything herein to the contrary, in no event shall the obligation of the trust or Trustee hereunder exceed the aggregate amount of $__.

Trustee agrees to furnish written notice to the U.S. Air Carrier Licensing/Special Authorities Division, X-44, Office of International Aviation, Department of Transportation, forthwith of all suits or claims filed and judgments rendered (of which it has knowledge), and of payments made by Trustee under the terms of this trust.

The trust shall not be liable hereunder for the payment of any damages hereinbefore described which arise as a result of any contracts, agreements, undertakings, or arrangements for the supplying of transportation and other services made by Operator after the termination of this trust as herein provided, but such termination shall not affect the liability of the trust hereunder for the payment of any damages arising as a result of contracts, agreements, or arrangements for the supplying of transportation and other services made by Operator prior to the date that such termination becomes effective.

Liability of the trust shall in all events be limited only to a Beneficiary or Beneficiaries who shall within sixty days after the termination of the particular charter give written notice of claim to Operator or, if it is unavailable, to Trustee, and all liability of the trust with respect to participants in a charter shall automatically terminate sixty days after the termination date of each particular charter covered by this trust except for claims made in the time provided herein.

Sixty-one days after the completion of the last charter covered by this Trust Agreement, the trust shall automatically terminate except for claims of any Beneficiary or Beneficiaries previously made in accordance with this Agreement still pending on and after said sixty-first day. To the extent of such claims, the trust shall continue until those claims are discharged, dismissed, dropped, or otherwise terminated. After all remaining claims which are covered by this Trust Agreement pending on and after the said sixty-first day have been discharged, dismissed, dropped, or otherwise terminated; Trustee shall convey forthwith the remainder of the trust corpus, if any, to Operator.

Either Operator or Trustee may at any time terminate this trust by written notice to: “U.S. Air Carrier Licensing/Special Authorities Division, X-44, Office of International Aviation, U.S. Department of Transportation, 1200 New Jersey Avenue SE, W-86-445, Washington, DC 20590,” such termination to become effective thirty days after the actual receipt of said notice by the Department.

In the event of any controversy or claim arising hereunder, Trustee shall not be required to determine same or take any other action with respect thereto, but may await the settlement of such controversy or claim by final appropriate legal proceedings, and in such event shall not be liable for interest or damages of any kind.

Any Successor to Trustee by merger, consolidation, or otherwise, shall succeed to this trusteeship and shall have the powers and obligations set forth in this Agreement.

The trust created under this Agreement shall be operated and administered under the laws of the State of __.

IN WITNESS WHEREOF, Operator and Trustee have executed this instrument on the date(s) shown below.

Operator ______ (signature)

Date

Name ______ (typed or printed)

Title

Trustee ______ (signature)

Date

Name ______ (typed or printed)

Title

PART 385—STAFF ASSIGNMENTS AND REVIEW OF ACTION UNDER ASSIGNMENTS

193. The authority citation for part 385 is revised to read as follows:

Authority: 49 U.S.C. 329, 40101, 41101, 41301, and 41701.

§ 385.1 [Amended]

194. In § 385.1:

a. In the term “Precedent” remove the words “by the Board” and add, in their place, the words “by its predecessor”.

b. In the term “Reviewing Official” remove the word “Deputy”.

§ 385.2 [Amended]

195. In § 385.2, remove the words “and the Director, Bureau of Transportation Statistics (BTS)”.

§ 385.7 [Amended]

196. In § 385.7, remove the word “Deputy”.

§ 385.12 [Amended]

197. In § 385.12, paragraphs (f), (h), and (i) are removed; paragraphs (g), (j), and (k) are re-designated as paragraphs (f), (g), and (h), respectively; and the newly redesignated paragraphs (f), (g) and (h) are revised to read as follows:

§ 385.12 Authority of the Director, Office of Aviation Analysis

* * * * *

(f) To approve certificates of insurance filed with the Department on behalf of U.S. and foreign air carriers in accordance with the provisions of part 205 of this chapter.

(g) With respect to mail rates:

(1) To issue show-cause orders proposing to make modifications of a technical nature in the mail rate formula applicable to temporary or final service mail rate orders.

(2) To issue final orders establishing temporary and final service mail rates:

(i) In those cases where no objection has been filed following release of the show-cause order, and where the rates established are the same as those proposed in the show-cause order; and

(ii) In those cases where it is necessary to make modifications of a technical nature in the rates proposed in the show-cause order.

(3) To issue final orders amending mail rate orders of air carriers to reflect changes in the names of the carriers subject to the orders.

(4) To issue a letter, in the case of air mail contracts filed with the Department under part 302 of this chapter against which no complaints have been filed, stating that the contract will not be disapproved by the Department and may become effective immediately.

(5) To issue final orders making quarterly fuel rate adjustments to Alaska bush and mainline mail rates set by the Department under 49 U.S.C. §§ 41901, 41902, and 41903.

(h) With respect to essential air service proceedings:

(1) To establish procedural dates.

(2) To issue orders setting interim rates of compensation for carriers required to provide essential air service.

(3) To issue orders approving a carrier's alternate service pattern if:

(i) The resulting level of service at the eligible place would be equal to or greater than the level of service earlier determined to be essential for that place;

(ii) The community concerned does not object to the carrier's implementation of the alternate service pattern; and

(iii) The carrier is not receiving a subsidy for the service or implementation of the alternate service pattern would not increase the carrier's subsidy.

(4) To issue orders adjusting the operational and/or financial unit rates of the payout formula for a carrier receiving subsidy under section 41732 of the Statute where the adjustment will not increase the total amount of compensation that the carrier will receive.

(5) To renew, up to five times in succession, an order under section 41734 of the Statute to an air carrier to continue providing essential air service while the Department attempts to find a replacement carrier.

(6) To request service and subsidy proposals from carriers interested in providing essential air service to an eligible place.

(7) To issue final orders establishing interim or final subsidy rates under section 41732 or final adjustments of compensation for continued service under section 41732 in those cases where no objection has been filed to a show-cause order, and where the rates established are the same as or less than those proposed in the approved show-cause order.

(8) With respect to provisions for terminations, suspensions, or reductions of service under part 323 of this chapter:

(i) To require any person who files a notice, objection, or answer to supply additional information.

(ii) To require service of a notice, objection, or answer upon any person.

(iii) To accept late-filed objections or answers, upon motion, for good cause shown.

(iv) To extend the time for filing objections for answers, when the initial notice has been filed earlier than required under § 323.5.

(9) To issue final air carrier selection orders establishing final subsidy rates for EAS provided under 49 U.S.C. 41733:

(i) Where the compensation to be paid is the same as or less than the existing rate, and where the community does not object to the selected option;

(ii) For EAS eligible Alaska communities, when the subsidy rate to be paid is less than $125,000, and where the community does not object to the selected option;

(iii) In cases where only one air carrier submitted one service or subsidy option.

(10) With respect to provisions for terminations, suspensions, or reductions of service under part 323 of this chapter:

(i) To require any person who files a notice, objection, or answer to supply additional information.

(ii) To require service of a notice, objection, or answer upon any person.

(iii) To accept late-filed objections or answers, upon motion, for good cause shown.

(iv) To extend the time for filing objections for answers, when the initial notice has been filed earlier than required under § 323.5.

(11) To issue procedural orders or notices in antitrust immunity cases filed under 14 CFR part 303 with respect to:

(i) Granting or denying requests for adjustments to procedural deadlines where there is no objection;

(ii) Making other adjustments to a procedural schedule where the policy is clear and consistent with precedent;

(iii) Granting parties to a proceeding access to confidential documents filed under a request for public non-disclosure pursuant to 14 CFR 302.12, where providing such access is consistent under current policy and precedent; and

(iv) In uncontested proceedings, ordering the filing of additional documents deemed relevant to the Department's consideration of the application, including the filing of documents for in-camera review, where doing so is consistent with past policy and precedent.

§ 385.13 [Amended]

198. Amend § 385.13 by:

a. Removing paragraph (b)(4).

b. Redesignating paragraphs (b)(2) and (3) as (b)(3) and (4), respectively.

c. Adding new paragraphs (b)(2), (5) and (6).

d. Removing the words “pursuant to Civil Aeronautics Board Order E-9305 of June 15, 1955” and adding in its place the words “agreements filed pursuant to previous statutory authority of the Department's predecessor” in paragraph (r) introductory text.

e. Revising paragraph (r)(1).

f. Adding new paragraphs (z)-(dd) to read as follows:

§ 385.13 Authority of the Director, Office of International Aviation.

* * * * *

(b) * * *

(2) For general tariff exemptions that apply to all U.S. and foreign air carriers pursuant to 14 CFR part 293.

* * * * *

(5) Issue orders granting uncontested applications by U.S. carriers to provide foreign air transportation where the carrier has already been found fit, willing, and able to provide service of the same basic scope or character; and

(6) Issue orders granting uncontested applications by foreign air carriers to provide foreign air transportation where the course of action is clear under current policy or precedent.

* * * * *

(r) With respect to International Air Transport Association (IATA) agreements filed with the Department pursuant to sections 41309 and 41308 of the Statute, or agreements filed pursuant to previous statutory authority of the Department's predecessor:

(1) Issue orders approving, disapproving, or exempting IATA agreements relating to fare and rate matters under section 41309, and granting or denying antitrust immunity under section 41308, where the course of action is clear under current policy and precedent.

* * * * *

(z) Issue orders and notices adjusting the Standard Foreign Fare Level to reflect percentage changes in actual operating costs per available seat mile.

(aa) Issue notices updating the list of country-pair markets.

(bb) With respect to Canadian charter air taxi operations:

(1) To approve applications for registration, or require that a registrant submit additional information, or reject an application for registration for failure to comply with part 294 of this chapter.

(2) To cancel, revoke, or suspend the registration of any Canadian charter air taxi operator using small aircraft registered under part 294 of this chapter that:

(i) Filed with the Department a written notice that it is discontinuing operations;

(ii) Is no longer designated by its home government to operate the services contemplated by its registration;

(iii) Holds a foreign air carrier permit under section 41302 to operate large aircraft charters between the United States and Canada;

(iv) Fails to keep its filed certificate of insurance current;

(v) No longer is substantially owned or effectively controlled by persons who are:

(A) Citizens of Canada;

(B) The Government of Canada; or

(C) A combination of both; or

(vi) No longer holds current effective Operations Specifications issued by the FAA.

(3) To grant or deny requests for a waiver of part 294 of this chapter, where grant or denial of the request is in accordance with current policy or precedent.

(cc) With respect to foreign air freight forwarders:

(1) To approve applications for registration, or require that a registrant submit additional information, or reject an application for registration for failure to comply with part 297 of this chapter.

(2) To cancel the registration of any foreign air freight forwarder or foreign cooperative shippers association that files a written notice with the Department indicating the discontinuance of common carrier activities.

(3) To exempt the registrant from the requirement contained in § 297.20 of this chapter that substantial ownership and effective control reside in citizens of the country that the applicant claims as its country of citizenship, where the course of action is clear under current precedent or policies.

(dd) With respect to charter operations:

(1) To grant or deny requests for waiver of parts 212, 372, and 380 of this chapter, where grant or denial of the request is in accordance with established precedent.

(2) To approve or disapprove direct air carrier escrow agreements filed pursuant to part 212 of this chapter.

(3) To reject or accept Public Charter prospectuses filed under part 380 of this chapter.

(4) With respect to the procedures for the registration of foreign charter operators under subpart E of part 380 of this chapter:

(i) To approve applications for registration, or require that a registrant submit additional information, or reject an application for registration for failure to comply with part 380 of this chapter.

(ii) To notify the applicant that its application will require further analysis or procedures, or is being referred to the Assistant Secretary for Aviation and International Affairs for formal action.

(iii) To cancel the registration of a foreign charter operator if it files a written notice with the Department that it is discontinuing its charter operations.

(iv) To waive provisions of subpart E of part 380 of this chapter.

199. Revise § 385.14 as follows:

§ 385.14 Authority of the General Counsel

The General Counsel has authority to:

(a) Issue proposed or final regulations for the purpose of making editorial changes or corrections to the Department's rules and regulations to carry out Subparts I, II and IV of Part A of Subtitle VII of the Transportation Code at 49 U.S.C. 40101 et seq., with the concurrence of the staff offices primarily responsible for the parts or sections involved: Provided, that any final regulation so issued shall have an effective date not less than 20 days after its date of publication in the Federal Register, and shall include a brief reference to the review procedures established in subpart C of this part.

(b) Where a petition for review is duly filed, reverse any rulemaking action taken pursuant to paragraph (a) of this section by withdrawing a proposed or final regulation issued thereunder. Any action taken by the General Counsel, pursuant to the authority of this section, shall not be subject to the review procedures of this part.

(c) Issue orders deferring action until after oral argument on motions submitted by parties subsequent to the issuance of an Administrative Law Judge's initial or recommended decision.

(d) Reissue existing regulations for the purpose of incorporating prior amendments adopted by the Department.

(e) Compromise any civil penalties being imposed in enforcement cases.

(f) Issue orders initiating and terminating informal nonpublic investigations under part 305 of this chapter (Procedural Regulations).

(g) Issue orders requiring air carriers to prepare and submit within a specified reasonable period, special reports, copies of agreements, records, accounts, papers, documents, and specific answers to questions upon which information is deemed necessary. Special reports shall be under oath whenever the General Counsel so requires.

(h) Institute and prosecute in the proper court, as agent of the Department, all necessary proceedings for the enforcement of the provisions of the act or any rule, regulation, requirement, or order thereunder, or any term, condition, or limitation of any certificate or permit, and for the punishment of all violations thereof. Any action taken by the General Counsel, pursuant to the authority of this section, shall not be subject to the review procedures of this part.

(i) Make findings regarding the reasonable necessity for the application of the Department's authority to obtain access to lands, buildings, and equipment, and to inspect, examine, and make notes and copies of accounts, records, memorandums, documents, papers, and correspondence of persons having control over, or affiliated with, any person subject to regulation under Subparts I, II, and IV of Part A of Subtitle VII of the Transportation Code at 49 U.S.C. 40101 et seq. through issuance of an appropriate order, letter, or other transmittal.

(j) Issue orders denying or granting conditional or complete confidential treatment of information supplied by any person to the Office of Aviation Enforcement and Proceedings. Confidential treatment may only be granted upon a finding that, if the information were in the Department's possession and a Freedom of Information Act (FOIA) request were made for the information:

(1) At the time of the confidentiality request, the FOIA request would be denied on the basis of one or more of the FOIA exemptions; and

(2) At any later time, the FOIA request would also be denied, absent a material change in circumstances (which may include a demonstration that the asserted exemption does not apply).

§ 385.15 [Removed and Reserved]

200. Remove and reserve § 385.15.

§ 385.18 [Amended]

201. In § 385.18, remove the words “Chief, Coordination Section, Documentary Services Division” and add in its place the words “Docket Officer, Docket Operations Office”.

§ 385.19 [Amended]

202. In § 385.19, remove the words “Office of Aviation Information” wherever they appear, and add in their place the words “Office of Airline Information”.

PART 389—FEES AND CHARGES FOR SPECIAL SERVICES

203. Part 389 is revised to read as follows:

PART 389—FEES AND CHARGES FOR SPECIAL SERVICES

Subpart A—General Provisions
Sec.
389.1 Policy and scope.
Subpart B—Fees for Special Services
389.10 Applicability of subpart.
389.11 Available services and resources.
389.12 Payment of fees and charges.
389.13 Fees for services.
Subpart C—Filing and Processing License Fees
389.20 Applicability of subpart.
389.21 Payment of fees.
389.22 Failure to make proper payment.
389.23 Application for waiver or modification of fees.
389.24 Foreign air carriers.
389.25 Schedule of processing fees.
389.26 Special rules for tariff page filings.
389.27 Refund of fee.

Authority: 49 U.S.C. 40113, 40114, 41711; 31 U.S.C. 9701; and 5 U.S.C. 552.

Subpart A—General Provisions

§ 389.1 Policy and scope.

Pursuant to the provisions of 31 U.S.C. 9701, Fees and charges for Government services and things of value, and as implemented by the Office of Management and Budget's Circular A-25, dated July 8, 1993, the Department sets forth in this regulation fees and charges to be paid for the use of certain services and resources of the Department as prescribed below.

Subpart B—Fees for Special Services

§ 389.10 Applicability of subpart.

This subpart describes certain services and resources made available by the Department and prescribes the fees and charges for those services and resources.

§ 389.11 Available services and resources.

Upon request and payment of fees as provided in subsequent sections, there are available, with respect to documents subject to inspection, services as follows:

(a) Locating and copying records and documents;

(b) Certification of copies of documents under seal of the Department; and

(c) Transcripts of hearings and proceedings.

§ 389.12 Payment of fees and charges.

The fees charged for services and resources shall be paid for electronically at http://www.pay.gov, a secure government-wide collection portal, except for charges for reporting services that are performed under competitive bid contracts with non-Government firms. Fees for reporting are payable to the firms providing the services. Payments to pay.gov can be made directly from a bank account or by credit/debit card.

§ 389.13 Fees for services.

Fees for services and resources described in subparts B and C of this part are pursuant to those fees set forth in 49 CFR part 7, subpart F, §§ 7.41—7.43, 7.45 and 7.46.

Subpart C—Filing and Processing License Fees

§ 389.20 Applicability of subpart.

(a) This subpart applies to the filing of certain documents and records with the Department by non-government parties, and prescribes fees for their processing.

(b) For the purpose of this subpart, record means an electronic tariff record submitted to the Department under subpart R of 14 CFR part 221, and contains a set of information that describes one (1) tariff fare, or a set of information that describes one (1) related element associated with such tariff fare.

§ 389.21 Payment of fees.

(a) Except as provided in paragraph (b), any document for which a filing fee is required by § 389.25 shall be paid for electronically at http://www.pay.gov, a secure government-wide collection portal, unless a waiver or modification of the filing fee has been requested and approved. Payments can be made directly from a bank account or by credit/debit card.

(b) Registration for all air taxi operators shall be accompanied by an 8 dollar ($8) registration filing fee in the form of a check, draft, or postal money order payable to the U.S. Department of Transportation.

(c) Where a document seeks authority or relief in the alternative and therefore would otherwise be subject to more than one filing fee, only the highest fee shall be required.

(d) Where a document relating to a single transaction or matter seeks multiple authorities or relief and therefore would otherwise be subject to more than one filing fee, only the highest fee shall be required. Where a document relating to more than one transaction or matter seeks multiple authorities or relief, the required filing fee shall be determined by combining the highest fees for each transaction or matter. For purposes of this paragraph, a specific number of charters or inclusive tours described in one application will be regarded as a single transaction or matter.

(e) No fee shall be returned after the document has been filed with the Department, except as provided in §§ 389.23 and 389.27.

§ 389.22 Failure to make proper payment.

In accordance with 49 CFR part 7, subpart F § 7.42, the Department will assess interest on unpaid fees on the 31st day following the day on which a notice of the amount due is first mailed to the requestor, unless the Department has granted an application for waiver or modification of the fees.

§ 389.23 Application for waiver or modification of fees.

(a) Applications may be filed asking for waiver or modification of any fee paid under this subpart. Each applicant shall set forth the reasons why a waiver or modification should be granted, and by what legal authority.

(b) Applications asking for a waiver or modification of fees shall be sent to the Director, Office of Aviation Analysis, U.S. Department of Transportation, 1200 New Jersey Avenue SE, Washington, DC 20590. This provision is in accordance § 385.30 of this chapter. When no petition for review is filed with the Department, or when the Department reviews the Director's decision, if the amount found due is not paid within 10 days after receipt of notification of the final determination, the document shall be returned to the filing party.

§ 389.24 Foreign air carriers.

A foreign air carrier, or such carriers, if from the same country, acting jointly, may apply for a waiver of the requirements of this part based on reciprocity for U.S. air carriers contained in the requirement of their home governments, or as provided in a treaty or agreement with the United States. To apply for a waiver under this section, foreign air carriers shall send waiver requests to the Director, Office of International Aviation. The request should include applicable official government rules, decisions, statements of policy, or comparable evidence concerning filing fees for U.S. air carriers, or for all carriers serving that country. Once a waiver has been granted for a specific country, no further waiver applications need be filed for that country.

§ 389.25 Schedule of processing fees.

(a) Document-filing fees.

Code | Document |
Interstate Air Transportation
Certificate of Public Convenience and Necessity (49 U.S.C. Chapter 411)
1 | Application for Certificate of Public Convenience and Necessity Interstate Air Transportation—Charter Authority Only | 850
2 | Application for Certificate of Public Convenience and Necessity Interstate Air Transportation—Scheduled Service | 850
3 | Dormant Authority | 290
4 | Application for Certificate of Public Convenience and Necessity Interstate Air Transportation—Cargo Authority Only | 670
5 | Application to transfer Certificate of Public Convenience and Necessity Interstate Air Transportation | 290
6 | Air Taxi Registration | 8
7 | Application for Commuter Air Carrier Authorization | 670
8 | Change of Name (registration of trade name or reissuance of certificate) | 56
9 | Exemption Request—General (49 U.S.C. Chapter 401) |
10 | Request for an Exemption from 49 U.S.C. Chapter 415 | 53
11 | Request for an Exemption from 49 U.S.C Chapter 411 | 280
12 | Request for an Exemption from 49 U.S.C Chapter 417 | 120
13 | Request for a Service Mail Rate Petition 49 U.S.C. Chapter 419 | 420
Foreign Air Transportation—U.S. Carriers (49 U.S.C. Chapter 411)
14 | Application for Certificate of Public Convenience and Necessity Foreign Air Transportation—Scheduled Service | 900
15 | Amendment to Application for Certificate of Public Convenience and Necessity Foreign Air Transportation—Scheduled Service | 425
16 | Application for Certificate of Public Convenience and Necessity Foreign Air Transportation—Charter Service | 600
17 | Amendment to Application for Certificate of Public Convenience and Necessity Foreign Air Transportation—Charter Service | 200
18 | Transfer of Certificate of Public Convenience and Necessity Foreign Air Transportation—Scheduled or Charter Service | 255
19 | Change of Name (registration of trade name or reissuance of certificate) | 56
Foreign Air Carrier Permit (49 U.S.C. Chapter 413)
20 | Foreign Air Carrier Permit—Initial Application | 760
21 | Foreign Air Carrier Permit—Amendment/Renewal of permit | 475
22 | Foreign Air Carrier Permit—Amendment to application for a permit | 215
Exemption (49 U.S.C. Chapter 401)
23 | Request for an Exemption from 49 U.S.C. Chapter 415 | 53
24 | Request for an Exemption from 49 U.S.C. Chapters 411/413 (10 or fewer flights) | 77
25 | Request for an Exemption from 49 U.S.C. Chapters 411/413 (More than 10 flights) | 360
26 | Request for an Exemption from 49 U.S.C. Chapters 411/413 (Filed less than 10 days before effective date requested) | ¹ 17
27 | Other (U.S. and foreign air carriers) | 360
28 | Emergency cabotage (49 U.S.C. Chapter 401) | 360
29 | Relief for U.S. and foreign indirect air carriers (49 U.S.C. Chapter 401) | 370
Undocketed Items
30 | Canadian Charter Air Taxi Registration | 30
31 | Foreign Freight Forwarder Registration | 11
32 | Foreign Tour Operator Registration | 10
33 | Foreign Aircraft Permit (14 CFR part 375) | 25
34 | Special Authorization (14 CFR part 375) | 12
35 | Charter Statement of Authorization | 8
36 | Intermodal Statement of Authorization | 10
37 | Special Authority (14 CFR part 216) | 37
38 | Fee for filing items 33-37 if filed less than time required before effective date | ¹11
39 | IATA resolutions | 61
Other (U.S. and Foreign Air Carriers)
| Charters: |
40 | Public Charter Prospectus | 39
41 | OMPC Operation Authorization | 665
42 | Waiver of Charter Regulations | 39
| Tariffs: |
43 | Pages | 2
44 | Special Tariff Permission | 12
45 | Waiver of Tariff Regulations | 12
46 | Exemption request | 371
| Agreements filed under 49 U.S.C. Chapter 413: |
47 | Prior Approval (docketed) | 1080
48 | Routine (non-docketed) | 64
49 | Application for free and reduced-rate transportation | 16
¹ Additional.

(b) Electronic Tariff Filing Fees. The filing fee for one (1) or more transactions proposed in any existing record, or for any new or canceled records, shall be 5 cents per record; Provided: That no fee shall be assessed for those records submitted to the Department pursuant to 14 CFR 221.500(b).

§ 389.26 Special rules for tariff page filings.

(a) Tariffs issued by carriers. The filing fee for tariff pages filed by U.S. air carriers will be charged even if the tariff includes matters involving participating foreign air carriers. It will also be charged if the tariff is issued by a foreign air carrier and includes matters involving participating U.S. air carriers, unless the foreign air carrier has obtained a waiver under § 389.24. The fee will not be charged for a blank looseleaf page unless it cancels matter in the preceding issue of the page.

(b) Tariffs issued by publishing agents.

(1) If the tariff is issued for one or more air carriers exclusively, the fee will be charged for each page.

(2) If the tariff is issued for one or more air carriers and one or more foreign air carriers, the fee will be charged for each page, except for those pages that the issuing agent states contain only:

(i) Matters pertaining exclusively to foreign air carriers that have been granted a waiver; or

(ii) Changes in matters pertaining to foreign air carriers that have been granted a waiver and that are included on the same page with other matters that are reissued without change.

(3) The fee will not be charged for a blank looseleaf page unless it cancels matters in the preceding page.

(4) No fee will be charged when two pages are published back-to-back, one page is not subject to the fee under paragraph (b)(2), and the page on the reverse is issued without substantive change.

(5) The fee will be charged for two looseleaf pages containing a correction number check sheet unless all other pages of the tariff are exempt from the fee.

§ 389.27 Refund of fee.

Any fee charged under this part may be refunded in full or in part upon request if the document for which it is charged is withdrawn before final action is taken. Such requests shall be filed in accordance with § 389.23.

PART 398—GUIDELINES FOR INDIVIDUAL DETERMINATIONS OF BASIC ESSENTIAL AIR SERVICE

204. The authority citation for part 399 continues to read as follows:

Authority: 49 U.S.C. Chapters 401 and 417; Airport and Airway Safety and Capacity Expansion Act of 1987 (Pub. L. 100-223, Dec. 30, 1987).

§ 398.11 [Removed]

205. Section 398.11 is removed.

PART 399—STATEMENTS OF GENERAL POLICY

206. The authority citation for part 399 continues to read as follows:

Authority: 49 U.S.C. 41712.

207. Throughout the part, remove the word “Board” wherever it appears, and add, in its place, the word “Department”.

208. Throughout the part, remove the word “Board's” wherever it appears, and add, in its place, the word “Department's”.

§ § 399.30, 399.31, 399.32, 399.33, 399.34, 399.37, 399.40, 399.41, 399.42, 399.43, 399.44, 399.63, 399.101, and 399.111 [Removed]

209. Sections 399.30, 399.31, 399.32, 399.33, 399.34, 399.37, 399.40, 399.41, 399.42, 399.43, 399.44, 399.63, 399.101, and 399.111 are removed.

§ 399.2 [Amended]

210. In § 399.2, in paragraph (c), remove the words “section 102 of the Act” and add, in its place, the words “section 40101 of 49 U.S.C.”.

§ 399.4 [Amended]

211. In § 399.4, in the third sentence, remove the word “the Act” and add, in its place, the words “49 U.S.C.”.

§ 399.35 [Amended]

212. Section 399.35 is revised to read as follows:

§ 399.35 Special tariff permission.

The Secretary of Transportation may approve, under such terms as the Secretary may require, a carrier's application for Special Tariff Permission to file a tariff for foreign air transportation required under Part 293 on less than the notice required by Section 41504 (b) of Title 49.

§ 399.60 [Amended]

213. In § 399.60, in paragraph (a), remove the words “applications under section 408 of the Act for approval of consolidations or acquisitions of control;”.

§ 399.80 [Amended]

214. In § 399.80, in the first paragraph, remove the word “(m)” and add, in its place, the word “(n)”.

§ 399.81 [Amended]

215. In § 399.81, in paragraph (c)(1), remove the words “This section” and add, in their place, the words “Paragraph (c)”; in paragraph (c)(2), remove the words “this section” and add, in their place, the words “paragraph (c)”; in paragraph (c)(3), remove the words “this paragraph” and add, in their place, the words “paragraph (c)”.

§ 399.82 [Amended]

216. In § 399.82, remove paragraphs (b)(2) and (3), and redesignate paragraphs (b)(4) and (5) as (b)(2) and (3).

§ 399.83 [Amended]

217. In § 399.83, remove the words “section 411 of the Act,” and add, in their place, the words “49 U.S.C. 41712”.

§ 399.91 [Amended]

218. Section 399.91 is revised to read as follows:

§ 399.91 Air carrier participation in programs of technical assistance to airlines of less developed countries.

(a) Applicability. This policy shall apply to proceedings under 49 U.S.C. 41309 in which the Department is required to make any determination as to the public interest or consistency with 49 U.S.C. Subtitle VII of any agreement or relationship sought to be entered into by an air carrier, or officer or director thereof, with a foreign airline in connection with the performance of some activity pursuant to a technical assistance contract financed by an agency of the U.S. Government.

§ 399.120 [Amended]

219. In § 399.120, remove the words “section 401(d)(8) of the Federal Aviation Act” and add, in their place, the words “sections 41102 and 41110 of 49 U.S.C.”.

Issued in Washington, DC, on April 17, 2018.
Elaine L. Chao,
Secretary of Transportation.

[FR Doc. 2018-08683 Filed 5-8-18; 8:45 am]

BILLING CODE 4910-9X-P